DEPARTMENT OF STATE

[Public Notice: 7296]

Office of the Chief of Protocol; Gifts to Federal Employees from Foreign Government Sources Reported to Employing Agencies in Calendar Year 2009

The Department of State submits the following comprehensive listing of the statements which, as required by law, Federal employees filed with their employing agencies during calendar year 2009 concerning gifts received from foreign government sources. The compilation includes reports of both tangible gifts and gifts of travel or travel expenses of more than minimal value, as defined by statute. Also, included are gifts received in previous years including one gift in 2001, one gift in 2002, one gift in 2004, two gifts in 2006, one gift in 2007 and 20 gifts in 2008. These latter gifts are being reported in 2009 as the Office of the Chief of Protocol, Department of State, did not receive the relevant information to include them in earlier reports.

Publication of this listing in the Federal Register is required by Section 7342(f) of Title 5, United States Code, as added by Section 515(a)(1) of the Foreign Relations Authorization Act, Fiscal Year 1978 (Pub. L. 95-105, August 17, 1977, 91 Stat. 865).

Dated: January 4, 2011.
Patrick F. Kennedy,
Under Secretary for Management, Department of State.

AGENCY: The White House—Executive Office of the President
[Report of Tangible Gifts]
Name and title of person accepting the gift on behalf of the U.S. Government | Gift, date of acceptance on behalf of the U.S. Government, estimated value, and current disposition or location | Identity of foreign donor and government | Circumstances justifying acceptance
The Honorable Barack Obama, President of the United States | Book entitled “The National Palace of Mexico”; red and brown artwork made of Olinalá lacquer. Rec'd—1/20/2009. Est. Value—$400.00. Disposition—Archives Foreign | His Excellency Felipe de Jesús Calderón Hinojosa, President of the United Mexican States | Non-acceptance would cause embarrassment to donor and U.S. Government.
The Honorable Barack Obama, President of the United States | Mikimoto desk clock; black basketball jersey. Rec'd—2/24/2009. Est. Value—$1,495.00. Disposition—Archives Foreign | His Excellency Taro Aso, Prime Minister of Japan | Non-acceptance would cause embarrassment to donor and U.S. Government.
The Honorable Barack Obama, President of the United States | Black and gold pen with a wooden pen holder, made from the wood of the HMS Gannet in Chatham; book entitled “Churchill and America” by Martin Gilbert; book entitled “Churchill: A Life” by Martin Gilbert; book set entitled “Biography of Winston S. Churchill,” by Martin Gilbert. Rec'd—3/3/2009. Est. Value—$16,510.00. Disposition—Archives Foreign | The Right Honorable James Gordon Brown, M.P., Prime Minister, United Kingdom | Non-acceptance would cause embarrassment to donor and U.S. Government.
The Honorable Barack Obama, President of the United States | Four boxes of dates and twelve bottles of wine. Rec'd—3/5/2009. Est. Value—$500.00. Disposition—Handled Pursuant to Secret Service Policy | His Excellency Abdelaziz Bouteflika, President of the People's Democratic Republic of Algeria | Non-acceptance would cause embarrassment to donor and U.S. Government.
The Honorable Barack Obama, President of the United States | Belleek handcrafted basket. Rec'd—3/17/2009. Est. Value—$385.00. Disposition—Archives Foreign | The Honorable Peter Robinson and the Honorable Martin McGuinness, First Minister and Deputy First Minister of Northern Ireland | Non-acceptance would cause embarrassment to donor and U.S. Government.
The Honorable Barack Obama, President of the United States | Book entitled “Restoring the Balance”; book entitled “The Military Balance 2009.” Rec'd—3/20/2009. Est. Value—$388.00. Disposition—Archives Foreign | The Honorable Richard Heller, Royal Danish Consulate, Denmark | Non-acceptance would cause embarrassment to donor and U.S. Government.
The Honorable Barack Obama, President of the United States | Small wooden CD holder; one book; fifteen compact discs. Rec'd—4/1/2009. Est. Value—$415.00. Disposition—Archives Foreign | His Excellency Dmitry Medvedev, President of the Russian Federation | Non-acceptance would cause embarrassment to donor and U.S. Government.
The Honorable Barack Obama, President of the United States | Black leather Montblanc briefcase. Rec'd—4/3/2009. Est. Value—$760.00. Disposition—Archives Foreign | Her Excellency Dr. Angela Merkel, Chancellor of the Federal Republic of Germany | Non-acceptance would cause embarrassment to donor and U.S. Government.
The Honorable Barack Obama, President of the United States | Gold medal created by the Czech mint featuring an image of President Obama. Rec'd—4/4/2009. Est. Value—$1,460.00. Disposition—Archives Foreign | The Honorable Petr Tulpa, Mayor of Jablonec Nad Nisou, Czech Republic | Non-acceptance would cause embarrassment to donor and U.S. Government.
The Honorable Barack Obama, President of the United States | Two cufflinks made by Sevan Bicakci; blue and silver glass vase. Rec'd—4/6/2009. Est. Value—$1,550.00. Disposition—Archives Foreign | His Excellency Abdullah Gul, President of the Republic of Turkey | Non-acceptance would cause embarrassment to donor and U.S. Government.
The Honorable Barack Obama, President of the United States | Two handwoven decorative rugs; one framed portrait of a woman wearing a green dress; one framed portrait depicting two women and a man surrounded by birds. Rec'd—4/7/2009. Est. Value—$1,850.00. Disposition—Archives Foreign | His Excellency Jalal Talabani, President of the Republic of Iraq | Non-acceptance would cause embarrassment to donor and U.S. Government.
The Honorable Barack Obama, President of the United States | Silver tray with a floral design; ceremonial plaque; four CDs; two informational booklets. Rec'd—4/20/2009. Est. Value—$520.00. Disposition—Archives Foreign | The Honorable Agnaldo Timóteo Pereira, Councilman for Sao Paulo Municipality, Federative Republic of Brazil | Non-acceptance would cause embarrassment to donor and U.S. Government.
The Honorable Barack Obama, President of the United States | Six decorative ceremonial weapons presented in a glass case. Rec'd—4/21/2009. Est. Value—$1,265.00. Disposition—Archives Foreign | His Majesty King Abdullah II bin Al Hussein, King of the Hashemite Kingdom of Jordan | Non-acceptance would cause embarrassment to donor and U.S. Government.
The Honorable Barack Obama, President of the United States | Black Bosca leather briefcase; CD entitled “The Fifth Summit of the Americas 2009”; DVD entitled “Cepal Publications 2008”; five books about Trinidad and Tobago. Rec'd—4/22/2009. Est. Value—$620.00. Disposition—Archives Foreign | The Right Honorable Patrick Manning, Prime Minister of the Republic of Trinidad and Tobago | Non-acceptance would cause embarrassment to donor and U.S. Government.
The Honorable Barack Obama, President of the United States | Bronze statue of a girl releasing a flock of doves. Rec'd—5/05/2009. Est. Value—$8,000.00. Disposition—Archives Foreign | His Excellency Shimon Peres, President of Israel | Non-acceptance would cause embarrassment to donor and U.S. Government.
The Honorable Barack Obama, President of the United States | Large oval blue lapis bowl, presented in a blue velvet presentation box. Rec'd—5/06/2009. Est. Value—$850.00. Disposition—Archives Foreign | His Excellency Dr. Hamid Karzai, President of the Islamic Republic of Afghanistan | Non-acceptance would cause embarrassment to donor and U.S. Government.
The Honorable Barack Obama, President of the United States | 3′ tall handcarved ebony wooden sculpture. Rec'd—5/21/2009. Est. Value—$6,000.00. Disposition—Archives Foreign | His Excellency Jakaya Kikwete, President of the United Republic of Tanzania | Non-acceptance would cause embarrassment to donor and U.S. Government.
The Honorable Barack Obama, President of the United States | Large cream-colored rug with fringes. Rec'd—5/26/2009. Est. Value—$2,500.00. Disposition—Archives Foreign | His Excellency Asif Ali Zardari, President of the Islamic Republic of Pakistan | Non-acceptance would cause embarrassment to donor and U.S. Government.
The Honorable Barack Obama, President of the United States | 25″ x 29″ framed painting of a tree; eight books. Rec'd—5/28/2009. Est. Value—$446.00. Disposition—Archives Foreign | His Excellency Dr. Mahmoud Abbas, President of the Palestinian Authority | Non-acceptance would cause embarrassment to donor and U.S. Government.
The Honorable Barack Obama, President of the United States | Bottle of olive oil. Rec'd—5/28/2009. Est. Value—$75.00. Disposition—Handled Pursuant to Secret Service Policy | His Excellency Dr. Mahmoud Abbas, President of the Palestinian Authority | Non-acceptance would cause embarrassment to donor and U.S. Government.
The Honorable Barack Obama, President of the United States | Pair of 18 karat rose gold cufflinks in the shape of shields; Meissen porcelain tray. Rec'd—6/03/2009. Est. Value—$600.00. Disposition—Archives Foreign | The Honorable Stanislaw Tillich Minister-President of the Free State of Saxony, Federal Republic of Germany | Non-acceptance would cause embarrassment to donor and U.S. Government.
The Honorable Barack Obama, President of the United States | Large desert scene on a green veined marble base featuring miniature figurines of gold palm trees and camels; large gold medallion with the Royal seal in a green leather display box; large brass and glass clock by Jaeger-LeCoultre in a green leather display case. Rec'd—6/03/2009. Est. Value—$34,500.00. Disposition—Archives Foreign | Abdullah bin Abd al-Aziz Al Saud, Custodian of the Two Holy Mosques, King of the Kingdom of Saudi Arabia | Non-acceptance would cause embarrassment to donor and U.S. Government.
The Honorable Barack Obama, President of the United States | Meissen tea set with a floral design; book entitled “Meissen in Meissen.” Rec'd—6/04/2009. Est. Value—$415.00. Disposition—Archives Foreign | Her Excellency Dr. Angela Merkel, Chancellor of the Federal Republic of Germany | Non-acceptance would cause embarrassment to donor and U.S. Government.
The Honorable Barack Obama, President of the United States | Twelve silk ties. Rec'd—6/15/2009. Est. Value—$1,680.00. Disposition—Archives Foreign | His Excellency Silvio Berlusconi, President of the Council of Ministers of the Italian Republic | Non-acceptance would cause embarrassment to donor and U.S. Government.
The Honorable Barack Obama, President of the United States | Antique brass Samovar. Rec'd—7/07/2009. Est. Value—$400.00. Disposition—Archives Foreign | His Excellency Vladimir Putin, Chairman of the Government of the Russian Federation | Non-acceptance would cause embarrassment to donor and U.S. Government.
The Honorable Barack Obama, President of the United States | Large crystal table with an image of the American Flag. Rec'd—7/07/2009. Est. Value—$6,000.00. Disposition—Archives Foreign | His Excellency Silvio Berlusconi, President of the Council of Ministers of the Italian Republic | Non-acceptance would cause embarrassment to donor and U.S. Government.
The Honorable Barack Obama, President of the United States | Orange Batavus “Holland on the Hudson” bicycle with an extra bike seat. Rec'd—7/09/2009. Est. Value—$1,480.00. Disposition—Archives Foreign | His Excellency Jan Peter Balkenende, Prime Minister of the Kingdom of the Netherlands | Non-acceptance would cause embarrassment to donor and U.S. Government.
The Honorable Barack Obama, President of the United States | Gilt framed and matted mosaic depicting St. Peter's Square; decorative gold coin with the inscription “Benedict XVI Pont Max Anno IV” with the profile of Pope Benedict the XVI; booklet entitled “Instruction Dignitas Personae On Certain Bioethical Questions”; book entitled “Encyclical Letter Caritas in Veritate of the Supreme Pontiff Benedict XVI”; silver keychain. Rec'd—7/10/2009. Est. Value—$7,905.00. Disposition—Archives Foreign | His Holiness Pope Benedict XVI, Holy See | Non-acceptance would cause embarrassment to donor and U.S. Government.
The Honorable Barack Obama, President of the United States | 31″ x 47″ portrait of President Obama with an American Flag. Rec'd—7/21/2009. Est. Value—$700.00. Disposition—Archives Foreign | His Excellency Dr. John Evans Atta Mills, President of the Republic of Ghana | Non-acceptance would cause embarrassment to donor and U.S. Government.
The Honorable Barack Obama, President of the United States | Large silver vase with images of palm trees and sphinxes; Iraqi soccer team jersey. Rec'd—7/22/2009. Est. Value—$675.00. Disposition—Archives Foreign | His Excellency Nouri al-Maliki, Prime Minister of the Republic of Iraq | Non-acceptance would cause embarrassment to donor and U.S. Government.
The Honorable Barack Obama, President of the United States | Set of white mother-of-pearl cufflinks with blue sapphires in 18 karat white gold in a box made from shells and leather. Rec'd—7/30/2009. Est. Value—$875.00. Disposition—Archives Foreign | Her Excellency Gloria Macapagal-Arroyo, President of the Republic of the Philippines | Non-acceptance would cause embarrassment to donor and U.S. Government.
The Honorable Barack Obama, President of the United States | Mother-of-pearl and lapis lazuli gilt bronze box. Rec'd—8/03/2009. Est. Value—$1,100.00. Disposition—Archives Foreign | His Highness Sheikh Sabah Al-Ahmed Al-Jaber Al-Sabah, Amir of the State of Kuwait | Non-acceptance would cause embarrassment to donor and U.S. Government.
The Honorable Barack Obama, President of the United States | Nine books related to the history and culture of Morocco. Rec'd—8/04/2009. Est. Value—$624.00. Disposition—Archives Foreign | His Majesty Mohammed VI, King of the Kingdom of Morocco | Non-acceptance would cause embarrassment to donor and U.S. Government.
The Honorable Barack Obama, President of the United States | Book entitled “The Aztec Calendar and Other Solar Monuments” by Eduardo Matos and Felipe Solis; one metal Aztec calendar on a wooden display stand. Rec'd—8/25/2009. Est. Value—$422.00. Disposition—Archives Foreign | His Excellency Felipe de Jesús Calderón Hinojosa, President of the United Mexican States | Non-acceptance would cause embarrassment to donor and U.S. Government.
The Honorable Barack Obama, President of the United States | 3′ x 6′ wooden framed watercolor on paper depicting a landscape with limestone cliffs. Rec'd—9/20/2009. Est. Value—$3,000.00. Disposition—Archives Foreign | His Excellency Wu Banggou, Chairman of the Standing Committee of the National People's Congress of the People's Republic of China | Non-acceptance would cause embarrassment to donor and U.S. Government.
The Honorable Barack Obama, President of the United States | Francesco Basile gold watch. Rec'd—9/23/2009. Est. Value—$6,400.00. Disposition—Archives Foreign | His Excellency Silvio Berlusconi, President of the Council of Ministers of the Italian Republic | Non-acceptance would cause embarrassment to donor and U.S. Government.
The Honorable Barack Obama, President of the United States | Painting entitled “Mauritius—A Haven for Peace and Harmony,” by Daniele Hitie. Rec'd—9/23/2009. Est. Value—$1,200.00. Disposition—Archives Foreign | The Honorable Dr. Navinchandra Ramgoolam, Prime Minister of the Republic of Mauritius | Non-acceptance would cause embarrassment to donor and U.S. Government.
The Honorable Barack Obama, President of the United States | Silver bowl with a raised floral motif. Rec'd—9/23/2009. Est. Value—$400.00. Disposition—Archives Foreign | His Excellency Recep Tayyip Erdogan, Prime Minister of the Republic of Turkey | Non-acceptance would cause embarrassment to donor and U.S. Government.
The Honorable Barack Obama, President of the United States | Silver box imprinted with the insignia of the Kingdom of Thailand. Rec'd—9/23/2009. Est. Value—$450.00. Disposition—Archives Foreign | His Excellency Abhisit Vejjajiva, Prime Minister of the Kingdom of Thailand | Non-acceptance would cause embarrassment to donor and U.S. Government.
The Honorable Barack Obama, President of the United States | Book entitled “I Vetri di Archimede Seguso dal 1950 al 1959”; pair of blown glass candleholders and a glass fruit bowl. Rec'd—9/24/2009. Est. Value—$14,445.00. Disposition—Archives Foreign | His Excellency Silvio Berlusconi, President of the Council of Ministers of the Italian Republic | Non-acceptance would cause embarrassment to donor and U.S. Government.
The Honorable Barack Obama, President of the United States | Burgundy rug with a foliate motif. Rec'd—9/24/2009. Est. Value—$1,200.00. Disposition—Archives Foreign | His Excellency Dr. Manmohan Singh, Prime Minister of the Republic of India | Non-acceptance would cause embarrassment to donor and U.S. Government.
The Honorable Barack Obama, President of the United States | Bronze replica of a sculpture by Edgar Degas, entitled “Halted Horse.” Rec'd—9/25/2009. Est. Value—$2,635.00. Disposition—Archives Foreign | His Excellency Nicolas Sarkozy, President of the French Republic | Non-acceptance would cause embarrassment to donor and U.S. Government.
The Honorable Barack Obama, President of the United States | Book entitled “Barcelona & Catalonia”; framed currency entitled “The United Colonies, Four Dollars”, printed in Philadelphia in 1776 and documents of the Santa Fe Capitulations in a grey velvet case. Rec'd—10/13/2009. Est. Value—$739.00. Disposition—Archives Foreign | His Excellency José Luis Rodríguez Zapatero, President of the Government of Spain | Non-acceptance would cause embarrassment to donor and U.S. Government.
The Honorable Barack Obama, President of the United States | Graf von Faber-Castell “Perfect Pencil.” Rec'd—10/22/2009. Est. Value—$395.00. Disposition—Archives Foreign | His Excellency José Manuel Durao Barroso, President of the European Commission | Non-acceptance would cause embarrassment to donor and U.S. Government.
The Honorable Barack Obama, President of the United States | Book entitled “A Carnegie Anthology”; book entitled “Scottish Estate Tweeds”; one Johnstons cashmere sweater. Rec'd—10/22/2009. Est. Value—$1,019.00. Disposition—Archives Foreign | The Right Honorable James Gordon Brown, M.P., Prime Minister, United Kingdom | Non-acceptance would cause embarrassment to donor and U.S. Government.
The Honorable Barack Obama, President of the United States | Porcelain sculpture of five oxen. Rec'd—10/22/2009. Est. Value—$1,200.00. Disposition—Archives Foreign | His Excellency Hu Jintao, President of the People's Republic of China | Non-acceptance would cause embarrassment to donor and U.S. Government.
The Honorable Barack Obama, President of the United States | 39″ x 49″ wooden framed and matted fine silk embroidery depicting a portrait study of the First Family. Rec'd—11/01/2009. Est. Value—$20,000.00. Disposition—Archives Foreign | His Excellency Hu Jintao, President of the People's Republic of China | Non-acceptance would cause embarrassment to donor and U.S. Government.
The Honorable Barack Obama, President of the United States | 15″ blue glass jar with a silver design. Rec'd—11/02/2009. Est. Value—$538.00. Disposition—Archives Foreign | His All Holiness Bartholomew, Archbishop of Constantinople, New Rome and Ecumenical Patriarch | Non-acceptance would cause embarrassment to donor and U.S. Government.
The Honorable Barack Obama, President of the United States | 16″ x 27″ framed Japanese calligraphy. Rec'd—11/12/2009. Est. Value—$350.00. Disposition—Archives Foreign | The Honorable Kazunori Yamanoi, Member of the House of Representatives, Japan | Non-acceptance would cause embarrassment to donor and U.S. Government.
The Honorable Barack Obama, President of the United States | Chinese porcelain vase with a blue and white floral motif. Rec'd—11/15/2009. Est. Value—$450.00. Disposition—Archives Foreign | The Honorable Han Zheng, Mayor of Shanghai, People's Republic of China | Non-acceptance would cause embarrassment to donor and U.S. Government.
The Honorable Barack Obama, President of the United States | 50″ x 62″ rug with an image of President Obama. Rec'd—11/17/2009. Est. Value—$1,200.00. Disposition—Archives Foreign | The Honorable Gadzhi Makhachev, Permanent Representative of the Republic of Daghestan in Moscow, Russian Federation | Non-acceptance would cause embarrassment to donor and U.S. Government.
The Honorable Barack Obama, President of the United States | 10″ x 6″ gold vase. Rec'd—12/07/2009. Est. Value—$2,150.00. Disposition—Archives Foreign | His Excellency Recep Tayyip Erdogan, Prime Minister of the Republic of Turkey | Non-acceptance would cause embarrassment to donor and U.S. Government.
The Honorable Barack Obama, President of the United States | 14″ green glass vase with gold crescent and star designs, made by Palabahçe. Rec'd—12/28/2009. Est. Value—$1,100.00. Disposition—Archives Foreign | His Excellency Recep Tayyip Erdogan, Prime Minister of the Republic of Turkey | Non-acceptance would cause embarrassment to donor and U.S. Government.
The Honorable Barack Obama, President of the United States | Book entitled “Stories from the Panchatantra”; book entitled “Ancient Tales of Wit and Wisdom”; book entitled “The Puffin Treasury of Modern Indian Stories”; book entitled “A History of Ancient and Early Medieval India”; book entitled “The Gandhi Collection: History in the Making: The Visual Archives of Kulwant Roy.” Rec'd—12/22/2009. Est. Value—$3,572.00. Disposition—Archives Foreign | His Excellency Dr. Manmohan Singh, Prime Minister of the Republic of India | Non-acceptance would cause embarrassment to donor and U.S. Government.
The Honorable Barack Obama, President of the United States, and First Lady Michelle Obama | One framed photograph of Her Majesty Queen Elizabeth II; one framed photograph of Prince Phillip. Rec'd—4/01/2009. Est. Value—$775.00. Disposition—Archives Foreign | Her Majesty Queen Elizabeth II, United Kingdom of Great Britain and Northern Ireland | Non-acceptance would cause embarrassment to donor and U.S. Government.
The Honorable Barack Obama, President of the United States, and First Lady Michelle Obama | S.T. Dupont fountain pen; book entitled “S.T. Dupont Limited Editions”; Daum perfume bottle. Rec'd—4/3/2009. Est. Value—$1,185.00. Disposition—Archives Foreign | His Excellency Nicolas Sarkozy, President of the French Republic | Non-acceptance would cause embarrassment to donor and U.S. Government.
The Honorable Barack Obama, President of the United States, and First Lady Michelle Obama | Stainless steel watch with an accompanying historical booklet; brooch decorated with a red design; white ceramic dog bowl. Rec'd—4/05/2009. Est. Value—$579.00. Disposition—Archives Foreign | His Excellency Mirek Topolánek, Prime Minister of the Czech Republic | Non-acceptance would cause embarrassment to donor and U.S. Government.
The Honorable Barack Obama, President of the United States, and First Lady Michelle Obama | Set of six handmade wine glasses, and a book entitled “The Story of Prague Castle.” Rec'd—4/06/2009. Est. Value—$1,605.00. Disposition—Archives Foreign | His Excellency Vaclav Klaus, President of the Czech Republic | Non-acceptance would cause embarrassment to donor and U.S. Government.
The Honorable Barack Obama, President of the United States, and First Lady Michelle Obama | Five Ascot ties in assorted colors and two Krefelder Seidentuch silk scarves. Rec'd—6/01/2009. Est. Value—$440.00. Disposition—Archives Foreign | The Honorable Gregor Kathstede, Lord Mayor of Krefeld, Federal Republic of Germany | Non-acceptance would cause embarrassment to donor and U.S. Government.
The Honorable Barack Obama, President of the United States, and First Lady Michelle Obama | Painting entitled “Natalia Pushkina” by Alexander Pavlovich Brullov, reproduction of a portrait of Alexander Pushkin's wife; porcelain doll designed by Anastasia Chizhova; framed replica of the address by the people of North American States to Alexander II; reproductions of letters between Emperor Alexander II and President Lincoln; lace tablecloth with twelve matching placemats; porcelain tea set made at the Imperial Porcelain Factory in Saint Petersburg. Rec'd—7/06/2009. Est. Value—$2,125.00. Disposition—Archives Foreign | His Excellency Dmitry Medvedev, President of the Russian Federation and Mrs. Svetlana Medvedeva | Non-acceptance would cause embarrassment to donor and U.S. Government.
The Honorable Barack Obama, President of the United States, and First Lady Michelle Obama | Two men's Belstaff jackets; one women's Belstaff jacket. Rec'd—7/06/2009. Est. Value—$3,071.00. Disposition—Archives Foreign | His Excellency Silvio Berlusconi, President of the Council of Ministers of the Italian Republic | Non-acceptance would cause embarrassment to donor and U.S. Government.
The Honorable Barack Obama, President of the United States, and First Lady Michelle Obama | Two gilt framed portraits of the President and First Lady, carved in wood. Rec'd—9/23/2009. Est. Value—$900.00. Disposition—Archives Foreign | His Excellency Bingu wa Mutharika, President of the Republic of Malawi | Non-acceptance would cause embarrassment to donor and U.S. Government.
The Honorable Barack Obama, President of the United States, and First Lady Michelle Obama | Five sterling silver cocktail forks; piece of orange decorative brocade cloth. Rec'd—9/24/2009. Est. Value—$387.00. Disposition—Archives Foreign | His Excellency and Mrs. Yukio Hatoyama, Prime Minister of Japan | Non-acceptance would cause embarrassment to donor and U.S. Government.
The Honorable Barack Obama, President of the United States, and First Lady Michelle Obama | Three multicolored shirts and two full-length cloth garments. Rec'd—11/17/2009. Est. Value—$450.00. Disposition—Archives Foreign | Mrs. Chantal Compaore, Wife of the President of Burkina Faso | Non-acceptance would cause embarrassment to donor and U.S. Government.
The Honorable Barack Obama, President of the United States, and First Lady Michelle Obama | 3′ x 3′ framed portrait of the President and First Lady by Petit-Bois Ancener; 5′ x 5′ portrait of the President by Petit-Bois Ancener. Rec'd—12/30/2009. Est. Value—$4,025.00. Disposition—Archives Foreign | His Excellency Raymond A. Joseph, Ambassador of the Republic of Haiti | Non-acceptance would cause embarrassment to donor and U.S. Government.
First Lady Michelle Obama | Franck Muller Color Dreams watch; accompanying book. Rec'd—4/4/2009. Est. Value—$12,895.00. Disposition—Archives Foreign | The Honorable Dierk Wettengel, Senator, Federal Republic of Germany | Non-acceptance would cause embarrassment to donor and U.S. Government.
First Lady Michelle Obama | 18 karat yellow gold chain with pearls and small diamonds. Rec'd—4/6/2009. Est. Value—$400.00. Disposition—Archives Foreign | Mrs. Hayrünnisa Gül, Wife of the President of the Republic of Turkey | Non-acceptance would cause embarrassment to donor and U.S. Government.
First Lady Michelle Obama | Necklace made of 33 pearls with a sterling silver pendant. Rec'd—4/2/2009. Est. Value—$14,200.00. Disposition—Archives Foreign | Abdullah bin Abd al-Aziz Al Saud, Custodian of the Two Holy Mosques, King of the Kingdom of Saudi Arabia | Non-acceptance would cause embarrassment to donor and U.S. Government.
First Lady Michelle Obama | Decorative box made of crystal and lacquered wood. Rec'd—4/04/2009. Est. Value—$1,000.00. Disposition—Archives Foreign | The Honorable Roland Ries, Mayor of Strasbourg, French Republic | Non-acceptance would cause embarrassment to donor and U.S. Government.
First Lady Michelle Obama | Brown leather “Sadaf International” purse; brown “Sadaf International” jewelry box. Rec'd—6/02/2009. Est. Value—$490.00. Disposition—Archives Foreign | His Excellency Asif Ali Zardari, President of the Islamic Republic of Pakistan | Non-acceptance would cause embarrassment to donor and U.S. Government.
First Lady Michelle Obama | Ruby and diamond jewelry set consisting of a pair of earrings, a ring, a bracelet, and a necklace. Rec'd—6/03/2009. Est. Value—$132,000.00. Disposition—Archives Foreign | Abdullah bin Abd al-Aziz Al Saud, Custodian of the Two Holy Mosques, King of the Kingdom of Saudi Arabia | Non-acceptance would cause embarrassment to donor and U.S. Government.
First Lady Michelle Obama | Black Christian Dior handbag. Rec'd—6/19/2009. Est. Value—$4,500.00. Disposition—Archives Foreign | Mrs. Carla Sarkozy, Wife of the President of the French Republic | Non-acceptance would cause embarrassment to donor and U.S. Government.
First Lady Michelle Obama | Pink pearl necklace and a multicolored silk scarf. Rec'd—6/23/2009. Est. Value—$500.00. Disposition—Archives Foreign | Mrs. Datin Siti Rubiah Bt. Datuk Abdul Samad, Wife of the Minister of Foreign Affairs, Malaysia | Non-acceptance would cause embarrassment to donor and U.S. Government.
First Lady Michelle Obama | 18 karat yellow gold brooch decorated with cultured pearls and yellow citrines presented in a green wooden jewelry box; one book entitled “Kulinarya: A Guidebook to Philippine Cuisine” by Michaela Fenix. Rec'd—7/30/2009. Est. Value—$938.00. Disposition—Archives Foreign | Her Excellency Gloria Macapagal-Arroyo, President of the Republic of the Philippines | Non-acceptance would cause embarrassment to donor and U.S. Government.
First Lady Michelle Obama | Red woven shawl; and a lapis and silver jewelry set, including a pair of earrings and a necklace. Rec'd—8/11/2009. Est. Value—$450.00. Disposition—Archives Foreign | Her Excellency Michelle Bachelet, President of the Republic of Chile | Non-acceptance would cause embarrassment to donor and U.S. Government.
First Lady Michelle Obama | Brown and black Italian leather purse. Rec'd—8/21/2009. Est. Value—$450.00. Disposition—Archives Foreign | The Honorable Giovanni Chiodi, President of the Abruzzo Region, Italian Republic | Non-acceptance would cause embarrassment to donor and U.S. Government.
First Lady Michelle Obama | Traditional necklace made of green, yellow, and white beads; pair of brown leather sandals; two woven seat covers; three pieces of Ghanaian kente cloth. Rec'd—8/25/2009. Est. Value—$685.00. Disposition—Archives Foreign | Head Chief Osabarima Kwesi Atta, President, Oguaa Traditional Council, Cape Coast, Republic of Ghana | Non-acceptance would cause embarrassment to donor and U.S. Government.
First Lady Michelle Obama | Backes and Strauss “Black Star of Ghana” watch, crafted in 18 karat gold with diamonds and leather. Rec'd—8/25/2009. Est. Value—$48,000.00. Disposition—Archives Foreign | Mrs. Ernestina Naadu Mills, First Lady of the Republic of Ghana | Non-acceptance would cause embarrassment to donor and U.S. Government.
First Lady Michelle Obama | Framed signed photograph of the Prince and the Princess of the Netherlands; two ottomans made by Christien Meindertsma. Rec'd—9/11/2009. Est. Value—$5,372.00. Disposition—Archives Foreign | His Royal Highness Willem-Alexander, Prince of the Netherlands, and Her Royal Highness Máxima, Princess of the Netherlands | Non-acceptance would cause embarrassment to donor and U.S. Government.
First Lady Michelle Obama | Silver jewelry set including a necklace, earrings and ring. Rec'd—9/23/2009. Est. Value—$490.00. Disposition—Archives Foreign | His Excellency Recep Tayyip Erdogan, Prime Minister of the Republic of Turkey | Non-acceptance would cause embarrassment to donor and U.S. Government.
First Lady Michelle Obama | Two leather bags; one cloth tote bag; one brown suede shawl. Rec'd—9/25/2009. Est. Value—$975.00. Disposition—Archives Foreign | Her Excellency Cristina Fernandez de Kirchner, President of the Argentine Nation | Non-acceptance would cause embarrassment to donor and U.S. Government.
First Lady Michelle Obama | Necklace of multi-strand Akoya, Keshi, and freshwater pearls. Rec'd—9/25/2009. Est. Value—$9,700.00. Disposition—Archives Foreign | Mrs. Miyuki Hatoyama, Wife of the Prime Minister of Japan | Non-acceptance would cause embarrassment to donor and U.S. Government.
First Lady Michelle Obama | Beige pashmina shawl made by the Kashmir Loom Company. Rec'd—9/25/2009. Est. Value—$666.00. Disposition—Archives Foreign | His Excellency Dr. Manmohan Singh, Prime Minister of the Republic of India | Non-acceptance would cause embarrassment to donor and U.S. Government.
First Lady Michelle Obama | White leather Chanel notebook; S.T. Dupont white gold pen set; book entitled “Warhol: Le Grand Monde d' Andy Warhol.” Rec'd—9/25/2009. Est. Value—$3,766.00. Disposition—Archives Foreign | His Excellency Nicolas Sarkozy, President of the French Republic and Mrs. Carla Bruni-Sarkozy | Non-acceptance would cause embarrassment to donor and U.S. Government.
First Lady Michelle Obama | Two sets of 25″ x 23″ reproductions of The Codex Atlanticus by Leonardo da Vinci. Rec'd—9/25/2009. Est. Value—$1,000.00. Disposition—Archives Foreign | His Excellency Silvio Berlusconi, President of the Council of Ministers of the Italian Republic | Non-acceptance would cause embarrassment to donor and U.S. Government.
First Lady Michelle Obama | Lacquered wooden jewelry box; jewelry set consisting of an amber necklace and an amber bracelet. Rec'd—11/17/2009. Est. Value—$515.00. Disposition—Archives Foreign | Mrs. Kateryna Yushchenko, First Lady of Ukraine | Non-acceptance would cause embarrassment to donor and U.S. Government.
First Lady Michelle Obama | Painting of St. Michael the Archangel; set of six DVDs; one book. Rec'd—11/17/2009. Est. Value—$2,575.00. Disposition—Archives Foreign | His All Holiness Bartholomew, Archbishop of Constantinople, New Rome and Ecumenical Patriarch | Non-acceptance would cause embarrassment to donor and U.S. Government.
First Lady Michelle Obama | Wooden box with silver overlay; four beaded table coverings. Rec'd—12/07/2009. Est. Value—$850.00. Disposition—Archives Foreign | His Excellency Recep Tayyip Erdogan, Prime Minister of the Republic of Turkey | Non-acceptance would cause embarrassment to donor and U.S. Government.
First Lady Michelle Obama | Two silver enamel sculptures of a King Fisher and a parrot. Rec'd—12/22/2009. Est. Value—$1,400.00. Disposition—Archives Foreign | Mrs. Gursharan Kaur, Wife of the Prime Minister of the Republic of India | Non-acceptance would cause embarrassment to donor and U.S. Government.
First Lady Michelle Obama | Tan suede shawl made by Margarita Sierra. Rec'd—9/18/2009. Est. Value—$350.00. Disposition—Archives Foreign | His Excellency Dr. Tabaré Vazquez, President of the Oriental Republic of Uruguay and Mrs. Maria Delgado | Non-acceptance would cause embarrassment to donor and U.S. Government.
First Family | 30″ x 41″ wooden replica model of the USS Constitution; Swarovski crystal figurine entitled “Dalmally—Tropic Sun.” Rec'd—2/6/2009. Est. Value—$1,400.00. Disposition—Archives Foreign | The Honorable Dr. Navinchandra Ramgoolam, Prime Minister of the Republic of Mauritius | Non-acceptance would cause embarrassment to donor and U.S. Government.
First Family | Large porcelain jar; decorative fan with images of butterflies; small white and pink tea set; one green and blue glass jar in the shape of a kneeling water buffalo. Rec'd—3/12/2009. Est. Value—$700.00. Disposition—Archives Foreign | His Excellency Yang Jiechi, Minister of Foreign Affairs of the People's Republic of China | Non-acceptance would cause embarrassment to donor and U.S. Government.
First Family | Limited edition copy of “Beowulf”; painting entitled “Bogland” by Mark Dwyer; four books; limited edition Waterford crystal bowl. Rec'd—3/17/2009. Est. Value—$3,281.00. Disposition—Archives Foreign | His Excellency Brian Cowen, T.D., Prime Minister of Ireland | Non-acceptance would cause embarrassment to donor and U.S. Government.
First Family | Purple shawl made with Harris Tweed Hebrides fabric; assorted children's clothing including three shirts, two pairs of sunglasses, two skirts, one belt, one blazer, one pair of jeans, and two wooden bead necklaces. Rec'd—4/01/2009. Est. Value—$485.00. Disposition—Archives Foreign | Mrs. Sarah Brown, Wife of the Prime Minister, United Kingdom of Great Britain and Northern Ireland | Non-acceptance would cause embarrassment to donor and U.S. Government.
First Family | Oil on canvas painting entitled “Le Changement.” Rec'd—7/09/2009. Est. Value—$850.00. Disposition—Archives Foreign | His Excellency Giorgio Napolitano, President of the Italian Republic | Non-acceptance would cause embarrassment to donor and U.S. Government.
First Family | Large red linen portfolio containing ten lithographs of the fountains of the Vatican; Bible in a burgundy leather case; book entitled “Vatican City”; two children's hats; children's puzzle; children's wrist watch. Rec'd—7/10/2009. Est. Value—$1,007.00. Disposition—Archives Foreign | His Eminence Tarcisio Cardinal Bertone, S.D.B., Secretary of State, Holy See | Non-acceptance would cause embarrassment to donor and U.S. Government.
First Family | Six pieces of kente cloth and two glass bead jewelry sets, each consisting of a necklace, earrings, and two bracelets. Rec'd—7/21/2009. Est. Value—$615.00. Disposition—Archives Foreign | Mrs. Ernestina Naadu Mills, First Lady of the Republic of Ghana | Non-acceptance would cause embarrassment to donor and U.S. Government.
First Family | Two silver charm bracelets; two wooden kaleidoscopes; two wooden music jewelry boxes; three sets of cufflinks; a blue silk tie; purple pashmina scarf. Rec'd—9/25/2009. Est. Value—$559.00. Disposition—Archives Foreign | His Excellency Jan Peter Balkenende, Prime Minister of the Kingdom of the Netherlands | Non-acceptance would cause embarrassment to donor and U.S. Government.
First Lady Michelle Obama and First Family Children | Lara Bohinc rose gold Solar Eclipse bracelet; book entitled “The Railway Children”; book entitled “Stories from Shakespeare.” Rec'd—4/01/2009. Est. Value—$521.00. Disposition—Archives Foreign | Mrs. Samantha Cameron, Wife of the Right Honorable David Cameron, Leader of the Opposition of the United Kingdom of Great Britain and Northern Ireland | Non-acceptance would cause embarrassment to donor and U.S. Government.
First Lady Michelle Obama and First Family Children | Yellow alabaster bowl; sterling silver chains with charms; four white tablecloths with matching napkin rings. Rec'd—9/23/2009. Est. Value—$630.00. Disposition—Archives Foreign | Mrs. Suzanne Mubarak, Wife of the President of the Arab Republic of Egypt | Non-acceptance would cause embarrassment to donor and U.S. Government.
First Family Children | Four books and seventeen DVDs. Rec'd—4/02/2009. Est. Value—$470.00. Disposition—Archives Foreign | Mrs. Thérèse Rein, Wife of the Prime Minister of Australia | Non-acceptance would cause embarrassment to donor and U.S. Government.
First Family Children | Jewelry set including heart-shaped diamond earrings and a necklace. Rec'd—6/04/2009. Est. Value—$3,775.00. Disposition—Archives Foreign | Abdullah bin Abd al-Aziz Al Saud, Custodian of the Two Holy Mosques, King of the Kingdom of Saudi Arabia | Non-acceptance would cause embarrassment to donor and U.S. Government.
First Family Children | Jewelry set including square diamond earrings and a necklace. Rec'd—6/04/2009. Est. Value—$3,500.00. Disposition—Archives Foreign | Abdullah bin Abd al-Aziz Al Saud, Custodian of the Two Holy Mosques, King of the Kingdom of Saudi Arabia | Non-acceptance would cause embarrassment to donor and U.S. Government.
First Family Children | Four pink and orange scarves; one teddy bear; and one black lacquer jewelry box. Rec'd—6/16/2009. Est. Value—$570.00. Disposition—Archives Foreign | His Excellency Lee Myung-bak, President of the Republic of Korea | Non-acceptance would cause embarrassment to donor and U.S. Government.
First Family Children | Two 15-piece nesting dolls. Rec'd—7/07/2009. Est. Value—$500.00. Disposition—Archives Foreign | Mrs. Svetlana Medvedeva, Wife of President of the Russian Federation | Non-acceptance would cause embarrassment to donor and U.S. Government.
First Family Children | Four dresses and two jackets, designed by Isabel Garreton. Rec'd—7/20/2009. Est. Value—$815.00. Disposition—Archives Foreign | Senator Pablo Longueira Montes, Republic of Santiago Poniente, Republic of Chile | Non-acceptance would cause embarrassment to donor and U.S. Government.
First Family Children | Two purple Samsung compact digital cameras; two pieces of pink decorative brocade silk fabric. Rec'd—11/19/2009. Est. Value—$740.00. Disposition—Archives Foreign | His Excellency Lee Myung-bak, President of the Republic of Korea | Non-acceptance would cause embarrassment to donor and U.S. Government.
White House Staff Member. Axelrod, David. | One pair of silver cufflinks, one male watch, one female watch, one silver pen, and one diamond jewelry set including earrings, a ring, and a bracelet, presented in a green leather case. Rec'd—6/3/2009. Est. Value—$9,000.00. Location—Pending Transfer to the General Services Administration | Abdullah bin Abd al-Aziz Al Saud, Custodian of the Two Holy Mosques, King of the Kingdom of Saudi Arabia | Non-acceptance would cause embarrassment to donor and U.S. Government.
White House Staff Member. Brennan, John. | Crystal clock in the shape of a horse. Rec'd—4/07/2009. Est. Value—$397.00. Location—Pending Transfer to the General Services Administration | The Honorable Elias Murr, Minister of Defense of the Republic of Lebanon | Non-acceptance would cause embarrassment to donor and U.S. Government.
White House Staff Member. Emanuel, Rahm. | 49″ x 76″ cream-colored rug. Rec'd—5/26/2009. Est. Value—$700.00. Location—Pending Transfer to the General Services Administration | His Excellency Asif Ali Zardari, President of the Islamic Republic of Pakistan | Non-acceptance would cause embarrassment to donor and U.S. Government.
White House Staff Member. Emanuel, Rahm. | One pair of silver cufflinks, one male watch, one female watch, one silver pen, and one diamond jewelry set including earrings, a ring, and a bracelet, presented in a green leather case. Rec'd—6/3/2009. Est. Value—$8,485.00. Location—Pending Transfer to the General Services Administration | Abdullah bin Abd al-Aziz Al Saud, Custodian of the Two Holy Mosques, King of the Kingdom of Saudi Arabia | Non-acceptance would cause embarrassment to donor and U.S. Government.
White House Staff Member. Favreau, Jon. | One pair of silver cufflinks, one male watch, one female watch, one silver pen, and one diamond jewelry set including earrings, a ring, and a bracelet, presented in a green leather case. Rec'd—6/3/2009. Est. Value—$5,155.00. Location—Pending Transfer to the General Services Administration | Abdullah bin Abd al-Aziz Al Saud, Custodian of the Two Holy Mosques, King of the Kingdom of Saudi Arabia | Non-acceptance would cause embarrassment to donor and U.S. Government.
White House Staff Member. Gibbs, Robert. | One pair of silver cufflinks, one male watch, one female watch, one silver pen, and one diamond jewelry set including earrings, a ring, and a bracelet, presented in a green leather case. Rec'd—6/3/2009. Est. Value—$5,235.00. Location—Pending Transfer to the General Services Administration | Abdullah bin Abd al-Aziz Al Saud, Custodian of the Two Holy Mosques, King of the Kingdom of Saudi Arabia | Non-acceptance would cause embarrassment to donor and U.S. Government.
White House Staff Member. Jarrett, Valerie. | One pair of silver cufflinks, one male watch, one female watch, one silver pen, and one diamond jewelry set including earrings, a ring, and a bracelet, presented in a green leather case. Rec'd—6/3/2009. Est. Value—$5,055.00. Location—Pending Transfer to the General Services Administration | Abdullah bin Abd al-Aziz Al Saud, Custodian of the Two Holy Mosques, King of the Kingdom of Saudi Arabia | Non-acceptance would cause embarrassment to donor and U.S. Government.
White House Staff Member. Jones, James. | 48″ x 77″ red rug. Rec'd—6/11/2009. Est. Value—$700.00. Location—Pending Transfer to the General Services Administration | His Excellency Asif Ali Zardari, President of the Islamic Republic of Pakistan | Non-acceptance would cause embarrassment to donor and U.S. Government.
White House Staff Member. Jones, James. | One pair of silver cufflinks, one male watch, one female watch, one silver pen, and one diamond jewelry set including earrings, a ring, and a bracelet, presented in a green leather case. Rec'd—6/3/2009. Est. Value—$7,780.00. Location—Pending Transfer to the General Services Administration | Abdullah bin Abd al-Aziz Al Saud, Custodian of the Two Holy Mosques, King of the Kingdom of Saudi Arabia | Non-acceptance would cause embarrassment to donor and U.S. Government.
White House Staff Member. Jones, James. | Chinese porcelain vase designed by Li Molin. Rec'd—10/14/2009. Est. Value—$350.00. Location—Pending Transfer to the General Services Administration | Mr. Li Yuanchao, Director, Politburo of the Communist Party of the People's Republic of China | Non-acceptance would cause embarrassment to donor and U.S. Government.
White House Staff Member. Jones, James. | 87″ x 35″ scroll, watercolor painting of a raptor with Mandarin characters. Rec'd—10/28/2009. Est. Value—$500.00. Location—Pending Transfer to the General Services Administration | General Xu Caihou, Vice Chairman, Central Military Commission of the People's Republic of China | Non-acceptance would cause embarrassment to donor and U.S. Government.
White House Staff Member. Jones, James. | Decorative display rifle, mounted on wood. Rec'd—10/07/2009. Est. Value—$650.00. Location—Pending Transfer to the General Services Administration | His Majesty King Abdullah II bin Al Hussein, King of the Hashemite Kingdom of Jordan | Non-acceptance would cause embarrassment to donor and U.S. Government.
White House Staff Member. Lippert, Mark. | One pair of silver cufflinks, one male watch, one female watch, one silver pen, and one diamond jewelry set including earrings, a ring, and a bracelet, presented in a green leather case. Rec'd—6/3/2009. Est. Value—$5,260.00. Location—Pending Transfer to the General Services Administration | Abdullah bin Abd al-Aziz Al Saud, Custodian of the Two Holy Mosques, King of the Kingdom of Saudi Arabia | Non-acceptance would cause embarrassment to donor and U.S. Government.
White House Staff Member. Mastromonaco, Alyssa. | One pair of silver cufflinks, one male watch, one female watch, one silver pen, and one diamond jewelry set including earrings, a ring, and a bracelet, presented in a green leather case. Rec'd—6/3/2009. Est. Value—$5,085.00. Location—Pending Transfer to the General Services Administration | Abdullah bin Abd al-Aziz Al Saud, Custodian of the Two Holy Mosques, King of the Kingdom of Saudi Arabia | Non-acceptance would cause embarrassment to donor and U.S. Government.
White House Staff Member. McDonough, Denis. | One pair of silver cufflinks, one male watch, one female watch, one silver pen, and one diamond jewelry set including earrings, a ring, and a bracelet, presented in a green leather case. Rec'd—6/3/2009. Est. Value—$4,575.00. Location—Pending Transfer to the General Services Administration | Abdullah bin Abd al-Aziz Al Saud, Custodian of the Two Holy Mosques, King of the Kingdom of Saudi Arabia | Non-acceptance would cause embarrassment to donor and U.S. Government.
White House Staff Member. Nicholson, Marvin. | One pair of silver cufflinks, one male watch, one female watch, one silver pen, and one diamond jewelry set including earrings, a ring, and a bracelet, presented in a green leather case. Rec'd—6/3/2009. Est. Value—$18,580.00. Location—Pending Transfer to the General Services Administration | Abdullah bin Abd al-Aziz Al Saud, Custodian of the Two Holy Mosques, King of the Kingdom of Saudi Arabia | Non-acceptance would cause embarrassment to donor and U.S. Government.
White House Staff Member. Pfeiffer, Daniel. | One pair of silver cufflinks, one male watch, one female watch, one silver pen, and one diamond jewelry set including earrings, a ring, and a bracelet, presented in a green leather case. Rec'd—6/3/2009. Est. Value—$4,740.00. Location—Pending Transfer to the General Services Administration | Abdullah bin Abd al-Aziz Al Saud, Custodian of the Two Holy Mosques, King of the Kingdom of Saudi Arabia | Non-acceptance would cause embarrassment to donor and U.S. Government.
White House Staff Member. Rhodes, Benjamin. | One pair of silver cufflinks, one male watch, one female watch, one silver pen, and one diamond jewelry set including earrings, a ring, and a bracelet, presented in a green leather case. Rec'd—6/3/2009. Est. Value—$5,405.00. Location—Pending Transfer to the General Services Administration | Abdullah bin Abd al-Aziz Al Saud, Custodian of the Two Holy Mosques, King of the Kingdom of Saudi Arabia | Non-acceptance would cause embarrassment to donor and U.S. Government.
White House Staff Member. Rundlet, Peter. | One pair of silver cufflinks, one male watch, one female watch, one silver pen, and one diamond jewelry set including earrings, a ring, and a bracelet, presented in a green leather case. Rec'd—6/3/2009. Est. Value—$12,560.00. Location—Pending Transfer to the General Services Administration | Abdullah bin Abd al-Aziz Al Saud, Custodian of the Two Holy Mosques, King of the Kingdom of Saudi Arabia | Non-acceptance would cause embarrassment to donor and U.S. Government.
White House Staff Member. Summers, Lawrence. | A silk Chinese scroll enclosed in a presentation box. Rec'd—3/30/2009. Est. Value—$400.00. Location—Pending Transfer to the General Services Administration | The Honorable Liu He, Chinese Vice Minister, The State Council Informatization Office, People's Republic of China | Non-acceptance would cause embarrassment to donor and U.S. Government.
White House Staff Member. Talwar, Puneet. | One pair of silver cufflinks, one male watch, one female watch, one silver pen, and one diamond jewelry set including earrings, a ring, and a bracelet, presented in a green leather case. Rec'd—6/3/2009. Est. Value—$10,680.00. Location—Pending Transfer to the General Services Administration | Abdullah bin Abd al-Aziz Al Saud, Custodian of the Two Holy Mosques, King of the Kingdom of Saudi Arabia | Non-acceptance would cause embarrassment to donor and U.S. Government.

AGENCY: The White House—Office of the Vice President
[Report of Tangible Gifts]
Name and title of person accepting the gift on behalf of the U.S. Government | Gift, date of acceptance on behalf of the U.S. Government, estimated value, and current disposition or location | Identity of foreign donor and government | Circumstances justifying acceptance
The Honorable Joseph R. Biden, Jr., Vice President of the United States | 109″ x 150″ Pakistani carpet with oval palmettos on curvilinear vines, leaves in white with red on an indigo field and a predominating border of rosettes. Rec'd—5/6/2009. Est. Value—$1,700.00. Disposition—Permission to Retain for Official Use Only | His Excellency Asif Ali Zardari, President of Pakistan | Non-acceptance would cause embarrassment to donor and U.S. Government.
The Honorable Joseph R. Biden, Jr., Vice President of the United States | Baccarat jumping horse clock. Rec'd—5/17/2009. Est. Value—$510.00. Location—National Archives | His Excellency Elias Murr, Minister of Defense of the Republic of Lebanon | Non-acceptance would cause embarrassment to donor and U.S. Government.
The Honorable Joseph R. Biden, Jr., Vice President of the United States | 40-piece handmade serving set from Lebanon by Haddad, with black horn bird handles with crests dotted in turquoise and red. Rec'd—5/17/2009. Est. Value—$350.00. Location—National Archives | Her Excellency Nayla Rene Moawad, Minister for Social Affairs of the Republic of Lebanon | Non-acceptance would cause embarrassment to donor and U.S. Government.
The Honorable Joseph R. Biden, Jr., Vice President of the United States | 18k gold Medal of Freedom coin in a decorative blue case with a presentation tag to The Vice President from President Sejdiu. Rec'd—5/21/2009. Est. Value—$2,000.00. Disposition—Permission to Retain for Official Use Only | His Excellency Dr. Fatmir Sejdiu, President of the Republic of Kosovo | Non-acceptance would cause embarrassment to donor and U.S. Government.
The Honorable Joseph R. Biden, Jr., Vice President of the United States | Large framed reproduction of the Declaration of Independence of Kosovo in a molded gold tone frame. Rec'd—5/13/2009. Est. Value—$650.00. Location—Pending transfer to National Archives | His Excellency Dr. Fatmir Sejdiu, President of the Republic of Kosovo | Non-acceptance would cause embarrassment to donor and U.S. Government.
The Honorable Joseph R. Biden, Jr., Vice President of the United States | Large framed sketch of a window and a table. Rec'd—5/14/2009. Est. Value—$570.00. Location—Pending transfer to National Archives | His Excellency Nebojsa Radmanovic, His Excellency Haris Silajdzic, and His Excellency Zelijko Komsic, The Tri-Presidency of Bosnia and Herzegovina | Non-acceptance would cause embarrassment to donor and U.S. Government.
The Honorable Joseph R. Biden, Jr., Vice President of the United States | 81″ x 121″ Afghani carpet with center medallion style of rosettes and indigo medallions on a white field filled with rectilinear foliate vines and surrounded by red stepped spandrels and borders. Rec'd—5/6/2009. Est. Value—$900.00. Location—Disposition—Permission to Retain for Official Use Only | His Excellency Hamid Karzai, President of the Islamic Republic of Afghanistan | Non-acceptance would cause embarrassment to donor and U.S. Government.
The Honorable Joseph R. Biden, Jr., Vice President of the United States | Tan “leatherette” box with a plaque with an enameled image of a lion, surrounded by a hand painted border with images and embossed metal corners. Rec'd—7/4/2009. Est. Value—$390.00. Location—National Archives | His Excellency Tariq Al-Hashimi, Vice President of the Republic of Iraq | Non-acceptance would cause embarrassment to donor and U.S. Government.
The Honorable Joseph R. Biden, Jr., Vice President of the United States | Large plexiglas box with metal olive branch attached; two candles in leather containers; leather box with a decorative glass lid; embroidered leather box. Rec'd—7/9/2009. Est. Value—$445.00. Location—National Archives | Their Majesties King Abdullah II bin Al Hussein and Queen Rania, King and Queen of the Hashemite Kingdom of Jordan | Non-acceptance would cause embarrassment to donor and U.S. Government.
The Honorable Joseph R. Biden, Jr., Vice President of the United States | Two 4.5″ Phoenician juglets in a clear acrylic case. Rec'd—5/23/2009. Est. Value—$500.00. Disposition—Permission to Retain for Official Use Only | His Excellency General Michael Sleiman, President of the Republic of Lebanon | Non-acceptance would cause embarrassment to donor and U.S. Government.
The Honorable Joseph R. Biden, Jr., Vice President of the United States | Hand painted plaque in a beige leather frame in a matching beige leather presentation case. Rec'd—8/20/2009. Est. Value—$345.00. Location—National Archives | His Excellency Nouri Al-Maliki, Prime Minister of the Republic of Iraq | Non-acceptance would cause embarrassment to donor and U.S. Government.
The Honorable Joseph R. Biden, Jr., Vice President of the United States | Two silver and blue lapis candle stick holders. Rec'd—8/20/2009. Est. Value—$460.00. Location—National Archives | Her Excellency Michelle Bachelet, President of the Republic of Chile | Non-acceptance would cause embarrassment to donor and U.S. Government.
The Honorable Joseph R. Biden, Jr., Vice President of the United States | Replica of the Saif Palace (9.5″ x 9.5″ x 22″) in a brown leather showcase with gold-colored latches. Rec'd—9/3/2009. Est. Value—$1,400.00. Location—National Archives | His Excellency Sheik Sabah Al-Ahmed Al-Jaber Al-Sabah, Amir of the State of Kuwait | Non-acceptance would cause embarrassment to donor and U.S. Government.
The Honorable Joseph R. Biden, Jr., Vice President of the United States | Silver octagonal box with etched details. Rec'd—10/22/2009. Est. Value—$440.00. Location—National Archives | His Excellency Mohamed Hosni Mubarak, President of the Arab Republic of Egypt | Non-acceptance would cause embarrassment to donor and U.S. Government.
The Honorable Joseph R. Biden, Jr., Vice President of the United States | Statue of a jungle fowl rooster on a wooden base (4.5″ x 8.5″) in a presentation box. Rec'd—10/22/2009. Est. Value—$550.00. Location—National Archives | His Excellency Dr. Manmohan Singh, Prime Minister of India | Non-acceptance would cause embarrassment to donor and U.S. Government.
Mrs. Kathleen Biden, The Vice President's Daughter-in-law | Brooch comprised of eight curves with graduated garnets on a gold plated mount. Rec'd—10/28/2009. Est. Value—$385.00. Location—National Archives | His Excellency Jan Fischer, Prime Minister of the Czech Republic | Non-acceptance would cause embarrassment to donor and U.S. Government.
The Honorable Joseph R. Biden, Jr., Vice President of the United States | Crystal bowl with red coloring. Rec'd—10/28/2009. Est. Value—$1,860.00. Location—National Archives | His Excellency Václav Klaus President of the Czech Republic | Non-acceptance would cause embarrassment to donor and U.S. Government.
The Honorable Joseph R. Biden, Jr., Vice President of the United States | Burgundy glass vase with a white design. Rec'd—11/25/2009. Est. Value—$1,900.00. Disposition—Permission to Retain for Official Use Only | His Excellency Václav Klaus, President of the Czech Republic | Non-acceptance would cause embarrassment to donor and U.S. Government.
The Honorable Joseph R. Biden, Jr., Vice President of the United States | Red glass sculpture of five loops of four concentric bands on a base with a presentation plaque in a a black presentation case; framed stamp set. Rec'd—10/28/2009. Est. Value—$820.00. Disposition—Permission to Retain for Official Use Only | Dr. Sorin Oprescu, Mayor of Bucharest, Romania | Non-acceptance would cause embarrassment to donor and U.S. Government.
The Honorable Joseph R. Biden, Jr., Vice President of the United States | Sterling silver plate by William and Son of London with a presentation tag on the rim in a presentation box. Rec'd—6/26/2009. Est. Value—$1,100.00. Location—National Archives | His Royal Highness Prince Salman Bin Hamad Bin Isa Al-Khalifa of the Kingdom of Bahrain | Non-acceptance would cause embarrassment to donor and U.S. Government.
The Honorable Joseph R. Biden, Jr., Vice President of the United States | Tri-handled artifact vase (3.5″ x 2.8″) in a clear acrylic vase. Rec'd—12/15/2009. Est. Value—$950.00. Disposition—Permission to Retain for Official Use Only | His Excellency General Michael Sleiman, President of the Republic of Lebanon | Non-acceptance would cause embarrassment to donor and U.S. Government.
The Honorable Joseph R. Biden, Jr., Vice President of the United States | 45″ x 67″ multicolored rug with a repeating floral medallion design on an ivory field with three borders. Rec'd—11/24/2009. Est. Value—$440.00. Disposition—Permission to Retain for Official Use Only | His Excellency Dr. Manmohan Singh, Prime Minister of the Republic of India | Non-acceptance would cause embarrassment to donor and U.S. Government.
The Honorable Joseph R. Biden, Jr., Vice President of the United States | Fountain pen by Stipula in a black case with “28” written in white, with a 14k white gold nib, and a cap marked “Prezydent Rzeoypospolitej Polskiej/made in Italy.” Rec'd—10/21/2009. Est. Value—$580.00. Location—National Archives | His Excellency Lech Kaczynski, President of the Republic of Poland | Non-acceptance would cause embarrassment to donor and U.S. Government.

AGENCY: Department of State
[Report of Tangible Gifts]
Name and title of person accepting the gift on behalf of the U.S. Government | Gift, date of acceptance on behalf of the U.S. Government, estimated value, and current disposition or location | Identity of foreign donor and government | Circumstances justifying acceptance
The Honorable Hillary Clinton, Secretary of State of the United States | Framed photograph of the King and Secretary Clinton with a hand-written message by His Majesty in a leather frame with silver accents and matching leather presentation box. Rec'd—March 18, 2009. Est. Value—$650.00. Location—Pending Transfer to General Services Administration | His Majesty Shaikh Hamad Bin Isa Bin Salman Al-Khalifa, King of the Kingdom of Bahrain | Non-acceptance would cause embarrassment to donor and U.S. Government.
The Honorable Hillary Clinton, Secretary of State of the United States | Crystal Baccarat clock of a jumping horse. Rec'd—April 8, 2009. Est. Value—$485.00. Location—Pending Transfer to General Services Administration | His Excellency Elias Murr, Minister of Defense of the Republic of Lebanon | Non-acceptance would cause embarrassment to donor and U.S. Government.
The Honorable Hillary Clinton, Secretary of State of the United States | Large marble bowl of blue lapis with circular design in blue velvet box. Rec'd—May 6, 2009. Est. Value—$820.00. Disposition—Permission to Retain for Official Use Only | His Excellency Hamid Karzai, President of the Islamic Republic of Afghanistan | Non-acceptance would cause embarrassment to donor and U.S. Government.
The Honorable Hillary Clinton, Secretary of State of the United States | Yellow and burgundy imperial china set with service for five and silk table runner in yellow silk box. Rec'd—February 1, 2009. Est. Value—$365.00. Disposition—Permission to Retain for Official Use Only | His Excellency Yang Jiechi, Minister of Foreign Affairs of the People's Republic of China | Non-acceptance would cause embarrassment to donor and U.S. Government.
The Honorable Hillary Clinton, Secretary of State of the United States | Iraqi woven carpet in green slipcase. Rec'd—April 25, 2009. Est. Value—$400.00. Location—Pending Transfer to General Services Administration | His Excellency Jalal Talabani, President of the Republic of Iraq | Non-acceptance would cause embarrassment to donor and U.S. Government.
The Honorable Hillary Clinton, Secretary of State of the United States | Chinese calligraphy portrait scroll in presentation box. Rec'd—October 27, 2009. Est. Value—$400.00. Location—Pending Transfer to General Services Administration | General Xu Caihou, Vice-Chairman, Central Military Commission of the People's Republic of China | Non-acceptance would cause embarrassment to donor and U.S. Government.
The Honorable Hillary Clinton, Secretary of State of the United States | Woven carpet with city skyline design; Signed book: “Jalal: From Freedom Fighter to President” in presentation box. Rec'd—September 25, 2009. Est. Value—$355.00. Location—Pending Transfer to General Services Administration | His Excellency Jalal Talabani, President of the Republic of Iraq | Non-acceptance would cause embarrassment to donor and U.S. Government.
The Honorable Hillary Clinton, Secretary of State of the United States | Carved wooden ebony statue of five figures on a base; Framed photograph of The President and Mrs. Clinton with the Vice President (1996). Rec'd—August 6, 2009. Est. Value—$410.00. Disposition—Permission to Retain for Official Use Only | His Excellency Stephen Kalonzo Musyoka, Vice President and Minister of Home Affairs of the Republic of Kenya | Non-acceptance would cause embarrassment to donor and U.S. Government.
The Honorable Hillary Clinton, Secretary of State of the United States | Personalized Dohjang stamp, inkpad and writing scroll; Book: “Behind the Shadow of 9/11” signed by the author. Rec'd—February 20, 2009. Est. Value—$500.00. Location—Pending Transfer to General Services Administration | His Excellency Han Seung-soo, Prime Minister of the Republic of Korea | Non-acceptance would cause embarrassment to donor and U.S. Government.
The Honorable Hillary Clinton, Secretary of State of the United States | 24K gold commemorative coin (16.9 Grams) of the Prince's exhibition to Antarctica. Rec'd—March 6, 2009. Est. Value—$500.00. Location—Pending Transfer to General Services Administration | His Serene Highness Albert II, Sovereign Prince of Monaco | Non-acceptance would cause embarrassment to donor and U.S. Government.
The Honorable Hillary Clinton, Secretary of State of the United States | Large silvered-bronze Buddha statue with gilt wash in red velvet presentation box. Rec'd—December 1, 2009. Est. Value—$670.00. Disposition—Permission to Retain for Official Use Only | His Excellency Madhav Kumar Nepal, Prime Minister of the Federal Democratic Republic of Nepal | Non-acceptance would cause embarrassment to donor and U.S. Government.
The Honorable Hillary Clinton, Secretary of State of the United States | Clock with brass nautical scene and marble base; Coin: sterling top in lacquer box; Coin: 2009 comemmorative coin with gold center; Coin: 2007 sterling silver with green enamel; Book: “Ukraine: Nature, Traditions and Culture”; Book: “Castles and Fortresses of Ukraine”. Rec'd—December 9, 2009. Est. Value—$630.00. Location—Pending Transfer to General Services Administration | His Excellency Petro Poroshenko, Minister of Foreign Affairs of Ukraine | Non-acceptance would cause embarrassment to donor and U.S. Government.
The Honorable Hillary Clinton, Secretary of State of the United States | 6” hand-blown vase with black, yellow and green striped design accented with ferns; Book: “Antarctic Partners” signed by the Minister. Rec'd—April 7, 2009. Est. Value—$385.00. Disposition—Permission to Retain for Official Use Only | The Right Honorable Murray McCully, M.P., Minister of Foreign Affairs and Trade of New Zealand | Non-acceptance would cause embarrassment to donor and U.S. Government.
The Honorable Hillary Clinton, Secretary of State of the United States | Large decorative red and brown woven carpet with a diamond design. Rec'd—October 31, 2009. Est. Value—$425.00. Location—Pending Transfer to General Services Administration | His Excellency Farooq H. Naek, Chairman of the Senate of the Islamic Republic of Pakistan | Non-acceptance would cause embarrassment to donor and U.S. Government.
The Honorable Hillary Clinton, Secretary of State of the United States | Burl wood travel jewelry case with blue lining; Book: “Malaccan Palace” with hand-painted watercolor foredge in custom presentation box with brass details. Rec'd—November 30, 2009. Est. Value—$530.00. Location—Pending Transfer to General Services Administration | Her Excellency Gloria Macapagal-Arroyo, President of the Republic of the Philippines | Non-acceptance would cause embarrassment to donor and U.S. Government.
The Honorable Hillary Clinton, Secretary of State of the United States | Jewelry box inlaid with gemstones; Illustrated history book of Philippine-American relations. Rec'd—November 12, 2009. Est. Value—$345.00. Location—Pending Transfer to General Services Administration | His Excellency Alberto Romulo, Secretary of Foreign Affairs of the Republic of the Philippines | Non-acceptance would cause embarrassment to donor and U.S. Government.
The Honorable Hillary Clinton, Secretary of State of the United States | Sterling silver clock on wooden base with gold trim with the Royal insignia and seal flanked by two Ibex figures. Rec'd—April 8, 2009. Est. Value—$850.00. Location—Pending Transfer to General Services Administration | His Excellency Shaykh Hamad bin Jasim bin Jabir Al Thani, Prime Minister of the State of Qatar | Non-acceptance would cause embarrassment to donor and U.S. Government.
The Honorable Hillary Clinton, Secretary of State of the United States | Silver necklace and earring set of 23 Carnelain and 24 Turquoise stones in wooden presentation box with silver and gold thread needlepoint embroidery. Rec'd—October 14, 2009. Est. Value—$385.00. Location—Pending Transfer to General Services Administration | His Excellency Mintimer Shaimiev, President of the Republic of Tatarstan | Non-acceptance would cause embarrassment to donor and U.S. Government.
The Honorable Hillary Clinton, Secretary of State of the United States | Black ceramic bowl with cracked glass inset and uneven edges. Rec'd—November 1, 2009. Est. Value—$680.00. Disposition—Permission to Retain for Official Use Only | His Excellency George Yeo Yong-Boon, Minister for Foreign Affairs of the Republic of Singapore | Non-acceptance would cause embarrassment to donor and U.S. Government.
The Honorable Hillary Clinton, Secretary of State of the United States | Custom silver-tone three-piece brooch with faux diamond accents. Rec'd—November 1, 2009. Est. Value—$560.00. Location—Pending Transfer to General Services Administration | His Excellency Lee Kuan Yew, Minister Mentor, Office of the Prime Minister of the Republic of Singapore | Non-acceptance would cause embarrassment to donor and U.S. Government.
The Honorable Hillary Clinton, Secretary of State of the United States | Set of six Zulu telephone wire plate chargers; Book: “Wired: Contemporary Zulu Telephone Wire Baskets“. Rec'd—September 1, 2009. Est. Value—$650.00. Disposition—Permission to Retain for Official Use Only | Mr. Jacob Zuma, President of the Republic of South Africa | Non-acceptance would cause embarrassment to donor and U.S. Government.
The Honorable Hillary Clinton, Secretary of State of the United States | Ceramic water pitcher with hand-painted floral design on body and lizard sculptures on pitcher handle and feet. Rec'd—March 19, 2009. Est. Value—$365.00. Location—Pending Transfer to General Services Administration | Her Excellency Maite Nkoana-Mashabane, Minister of Foreign Affairs of the Republic of South Africa | Non-acceptance would cause embarrassment to donor and U.S. Government.
The Honorable Hillary Clinton, Secretary of State of the United States | 2' hand-carved ebony wood log statue titled “Village Life“. Rec'd—May 21, 2009. Est. Value—$650.00. Disposition—Permission to Retain for Official Use Only | His Excellency Jakaya Kikwete, President of the United Republic of Tanzania | Non-acceptance would cause embarrassment to donor and U.S. Government.
The Honorable Hillary Clinton, Secretary of State of the United States | Large framed painting by local students of a dove in flight with an olive branch. Rec'd—March 30, 2009. Est. Value—$850.00. Disposition—Permission to Retain for Official Use Only | His Excellency Jozias Van Artisan, Mayor of the Hague | Non-acceptance would cause embarrassment to donor and U.S. Government.
The Honorable Hillary Clinton, Secretary of State of the United States | Small silk hand-woven carpet by Hereke Carpet Weaver's Association with seal of the Ecumenical Patriarch; Pamphlets and DVDs; Round silver mirror with floral design on back. Rec'd—November 5, 2009. Est. Value—$6,804.00. Location—Pending Transfer to General Services Administration | His All Holiness Bartholomew, Archbishop of Constantinople, New Rome and Ecumenical Patriarch | Non-acceptance would cause embarrassment to donor and U.S. Government.
The Honorable Hillary Clinton, Secretary of State of the United States | Framed painting of Ukrainian woman in traditional dress; Framed painting of village children in snow scene. Rec'd—November 9, 2009. Est. Value—$660.00. Location—Pending Transfer to General Services Administration | His Excellency Petro Poroshenko, Minister of Foreign Affairs of Ukraine | Non-acceptance would cause embarrassment to donor and U.S. Government.
The Honorable Hillary Clinton, Secretary of State of the United States | Hermes silk scarf with horse design; Black leather “Louis Vuitton” bag. Rec'd—February 5, 2009. Est. Value—$750.00. Location—Pending Transfer to General Services Administration | His Excellency Bernard Kouchner, Minister of Foreign Affairs of the French Republic | Non-acceptance would cause embarrassment to donor and U.S. Government.
The Honorable Hillary Clinton, Secretary of State of the United States | Two-stranded tear drop pink pearl necklace with silver clasp. Rec'd—July 23, 2009. Est. Value—$425.00. Location—Pending Transfer to General Services Administration | Her Excellency Dr. Dipu Moni, Minister of Foreign Affairs of the People's Republic of Bangladesh | Non-acceptance would cause embarrassment to donor and U.S. Government.
The Honorable Hillary Clinton, Secretary of State of the United States | Framed painting of a Dodo bird with sequins and faux gemstones; Swarovski crystal blue flower bouquet with silver branches. Rec'd—September 1, 2009. Est. Value—$420.00. Location—Pending Transfer to General Services Administration | The Government of Mauritius; government official who presented gift unknown | Non-acceptance would cause embarrassment to donor and U.S. Government.
The Honorable Hillary Clinton, Secretary of State of the United States | Large leather rug with three matching cushions; Book signed by the Minister. Rec'd—August 14, 2009. Est. Value—$895.00. Location—Pending Transfer to General Services Administration | The Honorable Ojo Maduekwe, Minister of Foreign Affairs of the Federal Republic of Nigeria | Non-acceptance would cause embarrassment to donor and U.S. Government.
The Honorable Hillary Clinton, Secretary of State of the United States | Large neon green box with tassel with sterling silver and touquoise jewelry set; Traditional shawl with embroidery; Traditional white dress with embroidery. Rec'd—September 1, 2009. Est. Value—$1,085.00. Location—Pending Transfer to General Services Administration | His Excellency Gurbanguly Berdimuhammedov, President of Turkmenistan | Non-acceptance would cause embarrassment to donor and U.S. Government.
The Honorable Hillary Clinton, Secretary of State of the United States | Large woven basket; Large hand-made quilt with white/black stripes and personalized inscription. Rec'd—April 21, 2009. Est. Value—$1,035.00. Disposition—Permission to Retain for Official Use Only | Her Excellency Ellen Johnson Sirleaf, President of the Republic of Liberia | Non-acceptance would cause embarrassment to donor and U.S. Government.
The Honorable Hillary Clinton, Secretary of State of the United States | Book: “A Mosaic: A Journey Through the Multi-Faceted World of Bahrain's Arts and Crafts”, Silver box with mother of pearl inlay and pearl on lid. Rec'd—June 26, 2009. Est. Value—$505.00. Location—Pending Transfer to General Services Administration | His Excellency Shaykh Khalifa bin Salman Al Khalifa, Prime Minister of the Kingdom of Bahrain | Non-acceptance would cause embarrassment to donor and U.S. Government.
The Honorable Hillary Clinton, Secretary of State of the United States | Framed copper art with hand-punched figures of two women. Rec'd—July 1, 2009. Est. Value—$385.00. Disposition—Permission to Retain for Official Use Only | His Excellency Adolphe Muzito, Prime Minister of the Democratic Republic of the Congo | Non-acceptance would cause embarrassment to donor and U.S. Government.
The Honorable Hillary Clinton, Secretary of State of the United States | Republic of El Salvador coin of 2500 colones. Rec'd—April 20, 2009. Est. Value—$450.00. Location—Pending Transfer to General Services Administration | His Excellency Mauricio Funes, President-elect of the Republic of El Salvador | Non-acceptance would cause embarrassment to donor and U.S. Government.
The Honorable Hillary Clinton, Secretary of State of the United States | Framed colorful abstract painting of cave imprints. Rec'd—May 5, 2009. Est. Value—$550.00. Location—Pending Transfer to General Services Administration | His Excellency Marat Tazhin, Minister of Foreign Affairs of the Republic of Kazakhstan | Non-acceptance would cause embarrassment to donor and U.S. Government.
The Honorable Hillary Clinton, Secretary of State of the United States | Painting of busy Haitian harbor; Sequined and beaded Haitian folk art of a heart and two flags. Rec'd—December 1, 2009. Est. Value—$435.00. Disposition—Permission to Retain for Official Use Only | His Excellency René Preval, President of the Republic of Haiti and Mrs. Elisabeth D. Preval | Non-acceptance would cause embarrassment to donor and U.S. Government.
The Honorable Hillary Clinton, Secretary of State of the United States | 25″ x 32″ wooden replica of the British warship Victory; Swarovski crystal “Object-Doroa, Fuschia Rain” blue and pink 4 petal flower on silver stem with leaf and stand. Rec'd—February 6, 2009. Est. Value—$525.00. Location—Pending Transfer to General Services Administration | The Honorable Dr. Navinchandra Ramgoolam, Prime Minister of the Republic of Mauritius | Non-acceptance would cause embarrassment to donor and U.S. Government.
The Honorable Hillary Clinton, Secretary of State of the United States | Pale blue vase with cracked crystaline design on body and yellow rim. Rec'd—April 27, 2009. Est. Value—$750.00. Disposition—Permission to Retain for Official Use Only | His Excellency George Yeo Yong-Boon, Minister for Foreign Affairs of the Republic of Singapore | Non-acceptance would cause embarrassment to donor and U.S. Government.
The Honorable Hillary Clinton, Secretary of State of the United States | Traditional vest of Kosovo embroidered with white gold and silver threads in blue velvet presentation box with inscription. Rec'd—February 26, 2009. Est. Value—$390.00. Location—Pending Transfer to General Services Administration | His Excellency Fatmir Sejdiu, President of the Republic of Kosovo | Non-acceptance would cause embarrassment to donor and U.S. Government.
The Honorable Hillary Clinton, Secretary of State of the United States | 22K gold round brooch with intricate rosette design and pearl accents. Rec'd—April 8, 2009. Est. Value—$450.00. Location—Pending Transfer to General Services Administration | His Excellency Samuel Lewis Navaro, First Vice President and Minister of Foreign Affairs of the Republic of Panama | Non-acceptance would cause embarrassment to donor and U.S. Government.
The Honorable Hillary Clinton, Secretary of State of the United States | Large Russian lacquer box with hand-painted scene in blue presentation box. Rec'd—March 6, 2009. Est. Value—$950.00. Disposition—Permission to Retain for Official Use Only | His Excellency Sergey Lavrov, Minister of Foreign Affairs of the Russian Federation | Non-acceptance would cause embarrassment to donor and U.S. Government.
The Honorable Hillary Clinton, Secretary of State of the United States | Gold plated jewelry set including a pair of earrings and necklace with emerald, ruby, moonstone, amethyst, citrine, garnet and diamonds. Rec'd—October 29, 2009. Est. Value—$2,600.00. Location—Pending Transfer to General Services Administration | His Excellency Mian Mohammad Nawaz Sharif, Former Prime Minister of the Islamic Republic of Pakistan | Non-acceptance would cause embarrassment to donor and U.S. Government.
The Honorable Hillary Clinton, Secretary of State of the United States | Framed portraiture painting of President William J. Clinton; Three brochures about the artist. Rec'd—October 31, 2009. Est. Value—$1,015.00. Location—Pending Transfer to General Services Administration | Mr. Bashir Ahmed, Dean of Fine Arts, National College of Art of Lahore, Islamic Republic of Pakistan | Non-acceptance would cause embarrassment to donor and U.S. Government.
The Honorable Hillary Clinton, Secretary of State of the United States | 4′ x 6′ carpet in black and beige with 10-point central rosette design in green velvet slipcase. Rec'd—November 13, 2009. Est. Value—$600.00. Location—Pending Transfer to General Services Administration | His Excellency Asif Ali Zardari, President of the Islamic Republic of Pakistan | Non-acceptance would cause embarrassment to donor and U.S. Government.
The Honorable Hillary Clinton, Secretary of State of the United States | Oval mother of pearl compact with diamond accent and 24K gold clasp with a gold tassel in a linen box. Rec'd—April 21, 2009. Est. Value—$950.00. Location—Pending Transfer to General Services Administration | His Majesty and Her Majesty King Abdullah II bin Al Hussein and Rania Al-Abdullah, King and Queen of the Hashemite Kingdom of Jordan | Non-acceptance would cause embarrassment to donor and U.S. Government.
The Honorable Hillary Clinton, Secretary of State of the United States | Pakistani rug with ivory floral design in green slipcover. Rec'd—May 26, 2009. Est. Value—$350.00. Location—Pending Transfer to General Services Administration | His Excellency Asif Ali Zardari, President of the Islamic Republic of Pakistan | Non-acceptance would cause embarrassment to donor and U.S. Government.
The Honorable Hillary Clinton, Secretary of State of the United States | Wooden music box by Dobin of Switzerland with floral detail and red velvet interior. Rec'd—July 31, 2009. Est. Value—$365.00. Location—Pending Transfer to General Services Administration | Her Excellency Micheline Calmy-Rey, Chief of the Federal Department of Foreign Affairs of the Swiss Confederation | Non-acceptance would cause embarrassment to donor and U.S. Government.
The Honorable Hillary Clinton, Secretary of State of the United States | Under-glazed, hand-painted porcelain vase with floral design and Expo 2010 Shanghai logo in leather presentation case; Set of two commemorative Expo 2010 Shanghai tickets in colored glass holder and presentation cases. Rec'd—November 14, 2009. Est. Value—$4,736.00. Location—Pending Transfer to General Services Administration | Mr. Yang Xiong, Executive Vice Mayor of the Shanghai Municipal Government | Non-acceptance would cause embarrassment to donor and U.S. Government.
The Honorable Hillary Clinton, Secretary of State of the United States | Sterling silver purse pen by Hermes. Rec'd—March 2, 2009. Est. Value—$390.00. Location—Pending Transfer to General Services Administration | His Excellency Bernard Kouchner, Minister of Foreign Affairs of the French Republic | Non-acceptance would cause embarrassment to donor and U.S. Government.
The Honorable Hillary Clinton, Secretary of State of the United States | Porcelain glazed vase with gingko leaves on a black lacquer base. Rec'd—February 21, 2009. Est. Value—$385.00. Disposition—Permission to Retain for Official Use Only | His Excellency Yang Jiechi, Minister of Foreign Affairs of the People's Republic of China | Non-acceptance would cause embarrassment to donor and U.S. Government.
The Honorable William J. Burns, Under Secretary of State | Miniature gold minaret statue with gilt brass covered pavilion on a wood base in leather presentation box. Rec'd—September 4, 2009. Est. Value—$560.00. Location—Pending Transfer to General Services Administration | His Excellency Ahmed bin Abdallah Al-Mahmoud, Minister of State for Foreign Affairs of Doha, State of Qatar | Non-acceptance would cause embarrassment to donor and U.S. Government.
The Honorable James B. Steinberg, Deputy Secretary of State | Large, wool Iraqi carpet with multicolor center and braided red and white border; Small, silk Iraqi carpet with center floral medallion and three framed borders. Rec'd—April 25, 2009. Est. Value—$1,260.00. Location—Pending Transfer to General Services Administration | His Excellency Jalal Talabani, President of the Republic of Iraq | Non-acceptance would cause embarrassment to donor and U.S. Government.
The Honorable William J. Burns, Under Secretary of State | Set of two books “Turkmen Dastakham”; Small 20″ x 40″ handmade rug; Large 32″ x 47″ handmade rug. Rec'd—September 30, 2009. Est. Value—$345.00. Disposition—Permission to Retain for Official Use Only | His Excellency Gurbanguly Berdimuhammedov, President of Turkmenistan | Non-acceptance would cause embarrassment to donor and U.S. Government.
George A. Krol, Deputy Assistant Secretary for South and Central Asian Affairs | Women's Movado Museum watch. Rec'd—November 9, 2009. Est. Value—$450.00. Location—Pending Transfer to General Services Administration | His Excellency Meret B. Orazov, The Ambassador of Turkmenistan to the United States | Non-acceptance would cause embarrassment to donor and U.S. Government.
Alina Romanowski, Deputy Assistant Secretary | Travel clock by Links with red and black face and white dots; Women's Movado Harmony stainless steel bracelet watch; Men's Movado Automatic watch. Rec'd—June 21, 2009. Est. Value—$997.00. Location—Pending Transfer to General Services Administration | General Major Hamad Al-Attiyah, Chief of Staff, Qatari Armed Forces, State of Qatar | Non-acceptance would cause embarrassment to donor and U.S. Government.
Alina Romanowski, Deputy Assistant Secretary | Men's Technomarine watch; Women's Technomarine watch; “Man” by Calvin Klien 3.4oz cologne; “Versace” by Versace 1.7oz cologne; Silk Tie by Pal Zileri; Men's Balenciaga wallet; Women's Ted Lapidus wallet. Rec'd—June 21, 2009. Est. Value—$1,680.00. Location—Pending Transfer to General Services Administration | General Major Hamad Al-Attiyah, Chief of Staff, Qatari Armed Forces, State of Qatar | Non-acceptance would cause embarrassment to donor and U.S. Government.
The Honorable Johnnie Carson, Assistant Secretary of State for African Affairs | Large, circular leather rug with traditional design and three matching seating cushions. Rec'd—August 11, 2009. Est. Value—$850.00. Location—Pending Transfer to General Services Administration | The Honorable Ojo Maduekwe, Minister of Foreign Affairs of the Federal Republic of Nigeria | Non-acceptance would cause embarrassment to donor and U.S. Government.
The Honorable Bill Taylor, U.S. Ambassador to Ukraine | Limited-edition (#406 of 500) set of seven “black series” pens by Caran d'Ache. Rec'd—September 16, 2008. Est. Value—$5,700.00. Location—Pending Transfer to General Services Administration | His Excellency Renat Akhmetov, Member of the Ukraine Rada House of Deputies, Ukraine | Non-acceptance would cause embarrassment to donor and U.S. Government.
The Honorable Joseph LeBaron, U.S. Ambassador to Qatar | Two 1824 Haviland Serengeti impala limoge vases (one large, one medium). Rec'd—June 25, 2009. Est. Value—$920.00. Location—Pending Transfer to General Services Administration | Bader Al-Darwish, Chairman, Qatar Chamber of Commerce, Member of the Royal Family, State of Qatar | Non-acceptance would cause embarrassment to donor and U.S. Government.
Penny Price, Protocol Officer | Tissot brand watch with round silvertone face and Royal Insignia. Rec'd—April 29, 2009. Est. Value—$425.00. Location—Pending Transfer to General Services Administration | His Majesty King Abdullah II bin Al Hussein, King of the Hashemite Kingdom of Jordan | Non-acceptance would cause embarrassment to donor and U.S. Government.
Laura Wills, Acting Chief of Protocol | Framed oil painting of Korean landscape. Rec'd—June 17, 2009. Est. Value—$550.00. Location—Pending Transfer to General Services Administration | Mrs. Choi Ah-Young, Spouse of the Ambassador of the Republic of Korea to the United States | Non-acceptance would cause embarrassment to donor and U.S. Government.
The Honorable William J. Burns, U.S. Ambassador to the Russian Federation | Large saber with fluted steel blade engraved with scrollwork and enamel details on the handle in a red velvet presentation box. Rec'd—November 1, 2006. Est. Value—$585.00. Location—Pending Transfer to General Services Administration | Mr. Gadzhi Makhachev, Duma Deputy Representing Daghestan and Deputy Chair of Parlimentary Committee | Non-acceptance would cause embarrassment to donor and U.S. Government.
The Honorable William J. Burns, U.S. Ambassador to the Russian Federation | Gilt-metal pitcher inlaid with enamel with six matching goblets and serving tray. Rec'd—June 1, 2006. Est. Value—$550.00. Location—Pending Transfer to General Services Administration | Mr. Gadzhi Makhachev, Duma Deputy Representing Daghestan and Deputy Chair of Parlimentary Committee | Non-acceptance would cause embarrassment to donor and U.S. Government.
The Honorable Joseph LeBaron, U.S. Ambassador to Qatar | Men's Rolex watch; Women's Chopard watch with diamond face. Rec'd—June 10, 2009. Est. Value—$15,500.00. Location—Pending Transfer to General Services Administration | Shaykh Thani bin Abdullah Al Thani, Member of the Royal Family, State of Qatar | Non-acceptance would cause embarrassment to donor and U.S. Government.
The Honorable Joseph LeBaron, U.S. Ambassador to Qatar | Mont Blanc Thomas Mann limited-edition pen; Mont Blanc cufflinks; Hermes Paris scarf; Mont Blanc Arturo Toscanini Special Edition Pen. Rec'd—December 1, 2009. Est. Value—$1,874.00. Location—Pending Transfer to General Services Administration | His Excellency Ali Bin Fahad Al-Hajri, Ambassador of Qatar to the United States | Non-acceptance would cause embarrassment to donor and U.S. Government.
The Honorable Joseph LeBaron, U.S. Ambassador to Qatar | President brand suitcase; Men's Hamilton watch; Silk tie by Aigner; Silk tie by Cerruti 1881; Leather wallet by Cerruti 1881; “Esprit de Gingembre” cologne by Angel Schlesser; Bottle of “Jood” perfume; S.T. Dupont brand Passenger. Rec'd—February 1, 2009. Est. Value—$1,929.00. Location—Pending Transfer to General Services Administration | General Major Hamad Al-Attiyah, Chief of Staff, Qatari Armed Forces, State of Qatar | Non-acceptance would cause embarrassment to donor and U.S. Government.
The Honorable Joseph LeBaron, U.S. Ambassador to Qatar | Tiffany & Co. Paloma Picasso cufflinks in sterling silver with carbon; Tateossian Blue Tempomatic watch; Chrome Cross ballpoint pen. Rec'd—March 9, 2009. Est. Value—$625.00. Location—Pending Transfer to General Services Administration | Shaykh Fahad Bin Mohammad Bin Jabor Al Thani, Member of the Royal Family, State of Qatar | Non-acceptance would cause embarrassment to donor and U.S. Government.
The Honorable Deborah K. Jones, U.S. Ambassador to Kuwait | Commemorative silver coin from central bank; Women's silver Omega brand watch in a red case. Rec'd—July 3, 2009. Est. Value—$630.00. Location—Pending Transfer to General Services Administration | His Highness Sheikh Sabah Al-Ahmed Al-Jaber Al-Sabah, Amir of the State of Kuwait | Non-acceptance would cause embarrassment to donor and U.S. Government.
Elinor LeBaron, Spouse of the U.S. Ambassador to Qatar | President brand suitcase: Women's Ted Lapidus brand watch; “Night” perfume by Al Jazeera Perfumes; S.T. Dupond brand passenger; “Esprit de Gingembre” perfume by Angel Schlesser; Women's Mark Fischer Swiss watch. Rec'd—February 1, 2009. Est. Value—$2,415.00. Location—Pending Transfer to General Services Administration | General Major Hamad Al-Attiyah, Chief of Staff, Qatari Armed Forces, State of Qatar | Non-acceptance would cause embarrassment to donor and U.S. Government.
Penny Price, Protocol Officer | Green leather briefcase with set of jewelry including ruby and diamond bracelet, earrings and ring, men's and women's silver Longines watches, Tiffany & Co. sterling silver cufflinks and Dior silver pen. Rec'd—June 3, 2009. Est. Value—$5,650.00. Location—Pending Transfer to General Services Administration | Abdullah Ibn Abdul Aziz Al Saud, Custodian of the Two Holy Mosques, King of the Kingdom of Saudi Arabia | Non-acceptance would cause embarrassment to donor and U.S. Government.
The Honorable Capricia Penavic Marshall, Chief of Protocol | Sterling silver tray engraved with a Cedar of Lebanon in a leather presentation box. Rec'd—December 1, 2009. Est. Value—$385.00. Location—Pending Transfer to General Services Administration | His Excellency Michel Sleiman, President of the Republic of Lebanon | Non-acceptance would cause embarrassment to donor and U.S. Government.
The Honorable David Thorne, U.S. Ambassador to Italy | Large marble flag sculpture of the American Flag by Italian Artist, Luciano Massari. Rec'd—September 11, 2009. Est. Value—$5,000.00. Disposition—Permission to Retain for Official Use Only | His Excellency Angelo Zubbani, Mayor of the City of Carrara | Non-acceptance would cause embarrassment to donor and U.S. Government.
The Honorable Cheryl Mills, Chief of Staff and Counselor | Large, circular leather rug with traditional design and three matching seating cushions. Rec'd—August 11, 2009. Est. Value—$850.00. Location—Pending Transfer to General Services Administration | The Honorable Ojo Maduekwe, Minister of Foreign Affairs of the Federal Republic of Nigeria | Non-acceptance would cause embarrassment to donor and U.S. Government.
Joseph Fishbein, Director for Regional Affairs, Office of the Coordinator for Counterterrorism | Men's Cerruti “1881” wristwatch. Rec'd—July 1, 2009. Est. Value—$780.00. Location—Pending Transfer to General Services Administration | Major General Mazen al Qadi, Director of Public Security, Jordanian Public Security Directorate, Hashemite Kingdom of Jordan | Non-acceptance would cause embarrassment to donor and U.S. Government.
Ande Metzger, Blair House Staff | Cover brand watch with round black face with Royal insignia. Rec'd—April 29, 2009. Est. Value—$385.00. Location—Pending Transfer to General Services Administration | His Majesty King Abdullah II bin Al Hussein, King of the Hashemite Kingdom of Jordan | Non-acceptance would cause embarrassment to donor and U.S. Government.
Alfonso Diaz, Blair House Staff | Cover brand watch with round black face with Royal insignia. Rec'd—April 29, 2009. Est. Value—$385.00. Location—Pending Transfer to General Services Administration | His Majesty King Abdullah II bin Al Hussein, King of the Hashemite Kingdom of Jordan | Non-acceptance would cause embarrassment to donor and U.S. Government.
Jose Fuster, Blair House Staff | Cover brand watch with round black face with Royal insignia. Rec'd—April 29, 2009. Est. Value—$385.00. Location—Pending Transfer to General Services Administration | His Majesty King Abdullah II bin Al Hussein, King of the Hashemite Kingdom of Jordan | Non-acceptance would cause embarrassment to donor and U.S. Government.
Sean Irby, Blair House Staff | Cover brand watch with round black face with Royal insignia. Rec'd—April 29, 2009. Est. Value—$385.00. Location—Pending Transfer to General Services Administration | His Majesty King Abdullah II bin Al Hussein, King of the Hashemite Kingdom of Jordan | Non-acceptance would cause embarrassment to donor and U.S. Government.
The Honorable David H. Rundell, Deputy Chief of Mission, U.S. Embassy Riyadh, Saudi Arabia | 18K white gold bracelet and matching earring set with citrine and diamond stones. Rec'd—June 4, 2009. Est. Value—$1,200.00. Location—Recipient Wishes to Purchase | Abdullah Ibn Abdul Aziz Al Saud, Custodian of the Two Holy Mosques King of the Kingdom of Saudi Arabia | Non-acceptance would cause embarrassment to donor and U.S. Government.
Gladys Boluda, Acting Chief of Protocol | Longines brand watch with rectangular face with Royal insignia and polished silver tone band. Rec'd—April 29, 2009. Est. Value—$1,075.00. Location—Pending Transfer to General Services Administration | His Majesty King Abdullah II bin Al Hussein, King of the Hashemite Kingdom of Jordan | Non-acceptance would cause embarrassment to donor and U.S. Government.
The Honorable Richard LeBaron, U.S. Ambassador to Kuwait, and Mrs. Lebaron | Men's Corum brand watch; Women's Corum brand watch. Rec'd—July 1, 2007. Est. Value—$5,400.00. Location—Pending Transfer to General Services Administration | The Government of the State of Kuwait; government official who presented gift unknown | Non-acceptance would cause embarrassment to donor and U.S. Government.
Paul Hegarty, Assistant Chief of Protocol | Raymond Weil brand watch silvertone face with Royal Insignia and Roman numerals. Rec'd—April 29, 2009. Est. Value—$895.00. Location—Pending Transfer to General Services Administration | His Majesty King Abdullah II bin Al Hussein, King of the Hashemite Kingdom of Jordan | Non-acceptance would cause embarrassment to donor and U.S. Government.
Connolly Keigher, Protocol Officer | Raymond Weil brand watch silvertone face with Royal Insignia and Roman numerals. Rec'd—April 29, 2009. Est. Value—$895.00. Location—Pending Transfer to General Services Administration | His Majesty King Abdullah II bin Al Hussein, King of the Hashemite Kingdom of Jordan | Non-acceptance would cause embarrassment to donor and U.S. Government.
The Honorable Joan Polaschik, Deputy Chief of Mission, U.S. Embassy Tripoli, Libya | 21K gold ring with a green stone. Rec'd—December 11, 2009. Est. Value—$980.00. Location—Recipient Wishes to Purchase | Colonel Muammar Abu Minyar al-Qadhafi, Leader of the Revolution of the Great Socialist People's Libyan Arab Jamahiriya | Non-acceptance would cause embarrassment to donor and U.S. Government.
The Honorable David H. Rundell, Deputy Chief of Mission, US Embassy Riyadh, Saudi Arabia | Men's Jazzmaster Tonneau 2824 watch by Hamilton. Rec'd—June 3, 2009. Est. Value—$479.00. Location—Pending Transfer to General Services Administration | Abdullah Ibn Abdul Aziz Al Saud, Custodian of the Two Holy Mosques, King of the Kingdom of Saudi Arabia | Non-acceptance would cause embarrassment to donor and U.S. Government.
The Honorable Richard C. Holbrooke, Special Representative for Afghanistan and Pakistan | Leather briefcase with brushed metal locks. Rec'd—May 1, 2009. Est. Value—$350.00. Location—Pending Transfer to General Services Administration | His Excellency Asif Ali Zardari, President of the Islamic Republic of Pakistan | Non-acceptance would cause embarrassment to donor and U.S. Government.
Gladys Boluda, Acting Chief of Protocol | Leather briefcase in deep burgandy leather with brushed gold locks. Rec'd—May 1, 2009. Est. Value—$420.00. Location—Pending Transfer to General Services Administration | His Excellency Asif Ali Zardari, President of the Islamic Republic of Pakistan | Non-acceptance would cause embarrassment to donor and U.S. Government.
The Honorable George J. Mitchell, Special Envoy for Middle East Peace | Crystal Equinox clock by Baccarat. Rec'd—July 4, 2009. Est. Value—$440.00. Disposition—Permission to Retain for Official Use Only | His Excellency Elias Murr, Minister of Defense of the Republic of Lebanon | Non-acceptance would cause embarrassment to donor and U.S. Government.
Jemma Renni, Blair House Staff | Cover brand watch with round black face with Royal insignia. Rec'd—April 29, 2009. Est. Value—$385.00. Location—Pending Transfer to General Services Administration | His Majesty King Abdullah II bin Al Hussein, King of the Hashemite Kingdom of Jordan | Non-acceptance would cause embarrassment to donor and U.S. Government.
Maria Sisk, Desk Officer for Qatar | Swarovski crystal gold chain with daphne pendant and matching earrings; Bottle of “Le Baisel Du Dragon” perfume; Bottle of “Black Orchid” perfume by Tom Ford. Rec'd—September 22, 2008. Est. Value—$360.00. Location—Pending Transfer to General Services Administration | His Excellency Ali Bin Fahad Al-Hajri, Ambassador of the State of Qatar to the United States | Non-acceptance would cause embarrassment to donor and U.S. Government.
Ali Rubin, Special Assistant to the Chief of Protocol | Raymond Weil brand watch silvertone face with Royal Insignia and Roman numerals. Rec'd—April 29, 2009. Est. Value—$895.00. Location—Pending Transfer to General Services Administration | His Majesty King Abdullah II bin Al Hussein, King of the Hashemite Kingdom of Jordan | Non-acceptance would cause embarrassment to donor and U.S. Government.
Ellen Germaine, Deputy Political Counselor, U.S. Mission to the United Nations, New York | Women's Swiss watch by Vander Bauwede; Silk scarf by A.C. Canova; Stainless Steel Bracelet. Rec'd—October 5, 2009. Est. Value—$1,100.00. Location—Pending Transfer to General Services Administration | His Excellency Yaqoub Al-Sanad, Councilor, Kuwaiti Mission to the United Nations | Non-acceptance would cause embarrassment to donor and U.S. Government.
Cecilia Elizondo Herrera, United States Consul General, Matamoros, Mexico | Small Louis Vuitton monogram canvass Montorgueil handbag. Rec'd—June 24, 2009. Est. Value—$800.00. Location—Pending Transfer to General Services Administration | His Excellency Eugene Hernandez, Governor of Tamaulipas, United Mexican States | Non-acceptance would cause embarrassment to donor and U.S. Government.
Timothy Dumas, Special Agent—Diplomatic Security | Men's Black Louis Erand Watch. Rec'd—July 27, 2009. Est. Value—$495.00. Location—Recipient Wishes to Purchase | His Excellency Khalid Al-Jalahma, Deputy Chief of Mission, Embassy of Bahrain | Non-acceptance would cause embarrassment to donor and U.S. Government.
Natalie Jones, Assistant Chief of Protocol | Tissot brand watch with round silvetone face and Royal Insignia. Rec'd—April 29, 2009. Est. Value—$425.00. Location—Pending Transfer to General Services Administration | His Majesty King Abdullah II bin Al Hussein, King of the Hashemite Kingdom of Jordan | Non-acceptance would cause embarrassment to donor and U.S. Government.
Kimberly Townsend, Protocol Officer | Tissot brand watch with round silvetone face and Royal Insignia. Rec'd—April 29, 2009. Est. Value—$425.00. Location—Pending Transfer to General Services Administration | His Majesty King Abdullah II bin Al Hussein, King of the Hashemite Kingdom of Jordan | Non-acceptance would cause embarrassment to donor and U.S. Government.
Gamal Helal, Senior Diplomatic Interpreter | Green leather briefcase with set of jewelry including ruby and diamond bracelet, earrings and ring, men's and women's watches with diamond face, Tiffany & Co. sterling silver cufflinks and sterling silver pen. Rec'd—June 3, 2009. Est. Value—$23,400.00. Location—Pending Transfer to General Services Administration | Abdullah Ibn Abdul Aziz Al Saud, Custodian of the Two Holy Mosques King of the Kingdom of Saudi Arabia | Non-acceptance would cause embarrassment to donor and U.S. Government.
Yael Belkind, Assistant Manager of Blair House | Tissot brand watch with round silvetone face and Royal Insignia. Rec'd—April 29, 2009. Est. Value—$425.00. Location—Pending Transfer to General Services Administration | His Majesty King Abdullah II bin Al Hussein, King of the Hashemite Kingdom of Jordan | Non-acceptance would cause embarrassment to donor and U.S. Government.
Weozelange Xirocostas, Blair House Staff | Cover brand watch with round black face with Royal insignia. Rec'd—April 29, 2009. Est. Value—$385.00. Location—Pending Transfer to General Services Administration | His Majesty King Abdullah II bin Al Hussein, King of the Hashemite Kingdom of Jordan | Non-acceptance would cause embarrassment to donor and U.S. Government.
Rodric Waters, Blair House Staff | Tissot brand watch with round silvetone face and Royal Insignia. Rec'd—April 29, 2009. Est. Value—$425.00. Location—Pending Transfer to General Services Administration | His Majesty King Abdullah II bin Al Hussein, King of the Hashemite Kingdom of Jordan | Non-acceptance would cause embarrassment to donor and U.S. Government.
Dario Santos, Blair House Staff | Cover brand watch with round black face with Royal insignia. Rec'd—April 29, 2009. Est. Value—$385.00. Location—Pending Transfer to General Services Administration | His Majesty King Abdullah II bin Al Hussein, King of the Hashemite Kingdom of Jordan | Non-acceptance would cause embarrassment to donor and U.S. Government.
Randy Bumgardner, Assistant Chief of Protocol and Blair House Manager | Raymond Weil brand watch silvertone face with Royal insignia and Roman numerals. Rec'd—April 24, 2009. Est. Value—$895.00. Location—Pending Transfer to General Services Administration | His Majesty King Abdullah II bin Al Hussein, King of the Hashemite Kingdom of Jordan | Non-acceptance would cause embarrassment to donor and U.S. Government.
Terezinha Dias, Blair House Staff | Cover brand watch with round black face with Royal insignia. Rec'd—April 29, 2009. Est. Value—$385.00. Location—Pending Transfer to General Services Administration | His Majesty King Abdullah II bin Al Hussein, King of the Hashemite Kingdom of Jordan | Non-acceptance would cause embarrassment to donor and U.S. Government.
Tanveer Iqbal, Blair House Staff | Cover brand watch with round black face with Royal insignia. Rec'd—April 29, 2009. Est. Value—$385.00. Location—Pending Transfer to General Services Administration | His Majesty King Abdullah II bin Al Hussein, King of the Hashemite Kingdom of Jordan | Non-acceptance would cause embarrassment to donor and U.S. Government.
The Honorable Richard W. Erdman, Charge d'Affaires, U.S. Embassy Riyadh, Saudi Arabia | Green leather briefcase with set of jewelry including topaz and diamond bracelet, earrings and ring, Men's and Women's Eloga Tzar “1928” watch with diamond face and, Tiffany and Co. sterling silver cufflinks and sterling silver pen. Rec'd—June 3, 2009. Est. Value—$12,000.00. Location—Pending Transfer to General Services Administration | Abdullah Ibn Abdul Aziz Al Saud, Custodian of the Two Holy Mosques King of the Kingdom of Saudi Arabia | Non-acceptance would cause embarrassment to donor and U.S. Government.
Ian Knox, Blair House Staff | Cover brand watch with round black face with Royal insignia. Rec'd—April 29, 2009. Est. Value—$385.00. Location—Pending Transfer to General Services Administration | His Majesty King Abdullah II bin Al Hussein, King of the Hashemite Kingdom of Jordan | Non-acceptance would cause embarrassment to donor and U.S. Government.
William Taylor, Director, Iraq Reconstruction Management Officer, U.S. Embassy Baghdad, Iraq | Non-operational Soviet-era chrome pistol in a wooden presentation box. Rec'd—August 1, 2004. Est. Value—$500.00. Location—Pending Transfer to General Services Administration | His Excellency Petro Poroshenko, Secretary of the National Security and Defence Council, Ukraine | Non-acceptance would cause embarrassment to donor and U.S. Government.
Edwin Brown, Deputy Political Councilor, U.S. Embassy Riyadh, Saudi Arabia | Men's “Hydro Conquest” watch by Longines. Rec'd—June 3, 2009. Est. Value—$650.00. Location—Pending Transfer to General Services Administration | Abdullah Ibn Abdul Aziz Al Saud, Custodian of the Two Holy Mosques King of the Kingdom of Saudi Arabia | Non-acceptance would cause embarrassment to donor and U.S. Government.
The Honorable Mark C. Minton, U.S. Ambassador to Mongolia | Desk-top silver medallion of mascots for the 2008 Bejing Olympic Games. Rec'd—October 6, 2009. Est. Value—$700.00. Location—Pending Transfer to General Services Administration | Government of The People's Republic of China | Non-acceptance would cause embarrassment to donor and U.S. Government.

AGENCY: Administrative Offices of the United States Court
[Report of Tangible Gifts]
Name and title of person accepting the gift on behalf of the U.S. Government | Gift, date of acceptance on behalf of the U.S. Government, estimated value, and current disposition or location | Identity of foreign donor and government | Circumstances justifying acceptance
The Honorable John G. Roberts, Jr., Chief Justice | Churima-Ching gold crown reproduction. Rec'd—5/13/2009. Est. Value—$1,200.00. Disposition—United States Supreme Court, Office of the Curator | President Kang-Kook Lee, Constitutional Court of Korea, Democratic People's Republic of Korea | Non-acceptance would cause embarrassment to donor and U.S. Government.

AGENCY: Appalachian Regional Commission
[Report of Travel]
Name and title of person accepting the gift on behalf of the U.S. Government | Gift, date of acceptance on behalf of the U.S. Government, estimated value, and current disposition or location | Identity of foreign donor and government | Circumstances justifying acceptance
P. Adam Harbison, Truman-Albright Fellow | Travel to United Arab Emirates as part of Truman Fellow program. Rec'd—04/18-30/09. Est. Value—$4,658.14 | Emirates Foundation | Non-acceptance would cause embarrassment to donor and U.S. Government.

AGENCY: Central Intelligence Agency
[Report of Tangible Gifts]
Name and title of person accepting the gift on behalf of the U.S. Government | Gift, date of acceptance on behalf of the U.S. Government, estimated value, and current disposition or location | Identity of foreign donor and government | Circumstances justifying acceptance
An Agency Employee | Men's Cartier Wristwatch with stainless steel bracelet and 18k gold bezel. Rec'd—06/26/2009. Est. Value—$1,500.00. Disposition—Pending Transfer to General Services Administration | 5 U.S.C. 7342(f)(4) | Non-acceptance would cause embarrassment to donor and U.S. Government.
An Agency Employee | Breitling watch. Rec'd—12/03/2009. Est. Value—$1,500.00. Disposition—Pending Transfer to General Services Administration | 5 U.S.C. 7342(f)(4) | Non-acceptance would cause embarrassment to donor and U.S. Government.
An Agency Employee | Breitling watch. Rec'd—12/03/2009. Est. Value—$1,500.00. Disposition—Pending Transfer to General Services Administration | 5 U.S.C. 7342(f)(4) | Non-acceptance would cause embarrassment to donor and U.S. Government.
An Agency Employee | Gentleman's 18k yellow gold “Tank” Cartier wristwatch with black reptile band and yellow gold buckle. Rec'd—03/20/2009. Est. Value—$2,000.00. Disposition—Pending Transfer to General Services Administration | 5 U.S.C. 7342(f)(4) | Non-acceptance would cause embarrassment to donor and U.S. Government.
An Agency Employee | Gentleman's 18k yellow gold “tank” Cartier wristwatch with black reptile band and yellow gold buckle. Rec'd—03/20/2009. Est. Value—$2,000.00. Disposition—Pending Transfer to General Services Administration | 5 U.S.C. 7342(f)(4) | Non-acceptance would cause embarrassment to donor and U.S. Government.
An Agency Employee | Gentleman's stainless steel “tank” manuel wind Cartier wristwatch with a black reptile wristband. Rec'd—03/20/2009. Est. Value—$1,000.00. Disposition—Pending Transfer to General Services Administration | 5 U.S.C. 7342(f)(4) | Non-acceptance would cause embarrassment to donor and U.S. Government.
An Agency Employee | Gentleman's 18k yellow gold “tank” Cartier wristwatch with black reptile band and yellow gold buckle. Rec'd—03/20/2009. Est. Value—$2,000.00. Disposition—Pending Transfer to General Services Administration | 5 U.S.C. 7342(f)(4) | Non-acceptance would cause embarrassment to donor and U.S. Government.
The Honorable Leon E. Panetta, Director of the Central Intelligence Agency | Silver palm tree in a glass display case. Rec'd—04/24/2009. Est. Value—$500.00. Location—On official display at the Agency | 5 U.S.C. 7342(f)(4) | Non-acceptance would cause embarrassment to donor and U.S. Government.
The Honorable Leon E. Panetta, Director of the Central Intelligence Agency | Silk rug, 4′11″ x 3′2″, light green ground with rose and blue details. Rec'd—04/24/2009. Est. Value—$500.00. Location—On official display at the Agency | 5 U.S.C. 7342(f)(4) | Non-acceptance would cause embarrassment to donor and U.S. Government.
The Honorable Leon E. Panetta, Director of the Central Intelligence Agency | Silver coffee pot. Rec'd—05/19/2009. Est. Value—$750.00. Location—On official display at the Agency | 5 U.S.C. 7342(f)(4) | Non-acceptance would cause embarrassment to donor and U.S. Government.
The Honorable Leon E. Panetta, Director of the Central Intelligence Agency | Eight piece coin set in a fitted case together with a yellow gold pointer. Rec'd—05/27/2009. Est. Value—$1,000.00. Location—On official display at the Agency | 5 U.S.C. 7342(f)(4) | Non-acceptance would cause embarrassment to donor and U.S. Government.
The Honorable Leon E. Panetta, Director of the Central Intelligence Agency | Lady's horseshoe shaped pierced earrings with diamonds and one emerald in each Rec'd—11/15/2009. Est. Value—$1,500.00. Disposition—Pending Transfer to General Services Administration | 5 U.S.C. 7342(f)(4) | Non-acceptance would cause embarrassment to donor and U.S. Government.
The Honorable Leon E. Panetta, Director of the Central Intelligence Agency | Lady's horseshoe shaped ring with diamonds and one emerald. Rec'd—11/15/2009. Est. Value—$1,500.00. Disposition—Pending Transfer to General Services Administration | 5 U.S.C. 7342(f)(4) | Non-acceptance would cause embarrassment to donor and U.S. Government.
The Honorable Leon E. Panetta, Director of the Central Intelligence Agency | Ladies 7″ bracelet with diamonds and three emeralds. Rec'd—11/15/2009. Est. Value—$3,000.00. Disposition—Pending Transfer to General Services Administration | 5 U.S.C. 7342(f)(4) | Non-acceptance would cause embarrassment to donor and U.S. Government.
An Agency Employee | Sterling filigree bracelet with gold inlay. Rec'd—03/14/2006. Est. Value—$500.00. Disposition—Pending Transfer to General Services Administration | 5 U.S.C. 7342(f)(4) | Non-acceptance would cause embarrassment to donor and U.S. Government.
An Agency Employee | White gold necklace with diamonds and an emerald pendant. Rec'd—03/14/2006. Est. Value—$3,000.00. Disposition—Pending Transfer to General Services Administration | 5 U.S.C. 7342(f)(4) | Non-acceptance would cause embarrassment to donor and U.S. Government.
An Agency Employee | Set of Callaway golf clubs and black leather golf bag. Rec'd—05/19/2008. Est. Value—$500.00. Disposition—Pending Transfer to General Services Administration | 5 U.S.C. 7342(f)(4) | Non-acceptance would cause embarrassment to donor and U.S. Government.
An Agency Employee | Yellow gold and rose-cut diamond filigree bangle bracelet. Rec'd—08/13/2008. Est. Value—$1,500.00. Disposition—Pending Transfer to General Services Administration | 5 U.S.C. 7342(f)(4) | Non-acceptance would cause embarrassment to donor and U.S. Government.
An Agency Employee | Gentleman's yellow gold and stainless steel Cartier watch with black reptile wristband. Rec'd—03/20/2009. Est. Value—$1,500.00. Disposition—Pending Transfer to General Services Administration | 5 U.S.C. 7342(f)(4) | Non-acceptance would cause embarrassment to donor and U.S. Government.
An Agency Employee | Group of 10 gold trade coins. Rec'd—03/20/2009. Est. Value—$5,000.00. Disposition—Pending Transfer to General Services Administration | 5 U.S.C. 7342(f)(4) | Non-acceptance would cause embarrassment to donor and U.S. Government.
An Agency Employee | Gentleman's stainless steel “tank” manuel wind Cartier wristwatch with a black reptile wristband. Rec'd—03/20/2009. Est. Value—$1,000.00. Disposition—Pending Transfer to General Services Administration | 5 U.S.C. 7342(f)(4) | Non-acceptance would cause embarrassment to donor and U.S. Government.
An Agency Employee | Gentleman's 18k yellow gold “tank” Cartier wristwatch with black reptile band and yellow gold buckle. Rec'd—03/20/2009. Est. Value—$2,000.00. Disposition—Pending Transfer to General Services Administration | 5 U.S.C. 7342(f)(4) | Non-acceptance would cause embarrassment to donor and U.S. Government.
An Agency Employee | Group of 10 gold trade coins. Rec'd—03/20/2009. Est. Value—$5,000.00. Disposition—Pending Transfer to General Services Administration | 5 U.S.C. 7342(f)(4) | Non-acceptance would cause embarrassment to donor and U.S. Government.
An Agency Employee | Gentleman's 18k yellow gold “tank” Cartier wristwatch with black reptile band and yellow gold buckle. Rec'd—03/20/2009. Est. Value—$2,000.00. Disposition—Pending Transfer to General Services Administration | 5 U.S.C. 7342(f)(4) | Non-acceptance would cause embarrassment to donor and U.S. Government.
An Agency Employee | Gentleman's Mont Blanc stainless steel wristwatch. Rec'd—06/25/2009. Est. Value—$400.00. Disposition—Pending Transfer to General Services Administration | 5 U.S.C. 7342(f)(4) | Non-acceptance would cause embarrassment to donor and U.S. Government.
An Agency Employee | Set of ladies Mizuno golf clubs in a pink and white leather bag. Rec'd—01/01/2008. Est. Value—$500.00. Disposition—Pending Transfer to General Services Administration | 5 U.S.C. 7342(f)(4) | Non-acceptance would cause embarrassment to donor and U.S. Government.
An Agency Employee | AKS-74 rifle. Rec'd—12/30/2001. Est. Value—$600.00. Location—On official display at the Agency | 5 U.S.C. 7342(f)(4) | Non-acceptance would cause embarrassment to donor and U.S. Government.
An Agency Employee | Gentleman's stainless steel “Tank” manuel wind Cartier wristwatch with a black reptile wristband. Rec'd—03/20/2009. Est. Value—$1,000.00. Disposition—Pending Transfer to General Services Administration | 5 U.S.C. 7342(f)(4) | Non-acceptance would cause embarrassment to donor and U.S. Government.
An Agency Employee | 9′ x 6′ silk rug in ivory with rose details. Rec'd—11/29/2008. Est. Value—$1,500.00. Disposition—Pending Transfer to General Services Administration | 5 U.S.C. 7342(f)(4) | Non-acceptance would cause embarrassment to donor and U.S. Government.
An Agency Employee | Ladies Bvlgari brand watch. Rec'd—11/15/2009. Est. Value—$500.00. Disposition—Pending Transfer to General Services Administration | 5 U.S.C. 7342(f)(4) | Non-acceptance would cause embarrassment to donor and U.S. Government.

AGENCY: Defense Intelligence Agency
[Report of Tangible Gifts]
Name and title of person accepting the gift on behalf of the U.S. Government | Gift, date of acceptance on behalf of the U.S. Government, estimated value, and current disposition or location | Identity of foreign donor and government | Circumstances justifying acceptance
Lieutenant General Ronald Burgess | Longines brand watch, wallet, pen, and cuff links set in lacquer box. Rec'd—3/30/09. Est. Value—$2,800.00. Disposition—Pending Transfer to General Services Administration | General Major Hamad Al-Attiyah, Chief of Staff, Qatari Armed Forces, State of Qatar | Non-acceptance would cause embarrassment to donor and U.S. Government.

AGENCY: Department of Agriculture
[Report of Tangible Gifts]
Name and title of person accepting the gift on behalf of the U.S. Government | Gift, date of acceptance on behalf of the U.S. Government, estimated value, and current disposition or location | Identity of foreign donor and government | Circumstances justifying acceptance
The Honorable Thomas Vilsack, Secretary of Agriculture of the United States | Imperial Vodka collection: A bar in the shape of a Faberge egg with openings to hold 4 cups and a carafe of vodka. Rec'd—4/18/2009. Est. Value—$1,000.00. Disposition—Pending Transfer to General Services Administration | The Honorable Elena Skrynnik, Minister of Agriculture of the Russian Federation | Non-acceptance would cause embarrassment to donor and U.S. Government.
The Honorable Thomas Vilsack, Secretary of Agriculture of the United States | 9.75” x 11” Red porcelain vase, with stand made by Millenniums of Cause (Qianqui Daye). Rec'd—10/29/2009. Est. Value—$644.00. Disposition—Pending Transfer to General Services Administration | The Honorable Lu Zu Shan, Governor of Zhejiang Province, People's Republic of China | Non-acceptance would cause embarrassment to donor and U.S. Government.
The Honorable James W. Miller, Under Secretary for Farm and Foreign Agriculture Services | 8.5” by 7.5” Porcelain Lipizzaner white stallion titled “Levade Without Rider” made by Augarten. Rec'd—5/13/2009. Est. Value—$1,325.00. Location—Retained in Under Secretary's office as an official gift | The Honorable Nikolas Berkovich, Federal Minister of Agriculture, Forestry, Environment and Water Management of the Republic of Austria | Non-acceptance would cause embarrassment to donor and U.S. Government.
Alfred V. Almanza, Food Safety and Inspection Service Administrator | Hard cover book in a dust jacket entitled “The Gastronomic World of Don Quixote” published 2005 by the Spanish Ministry of Agriculture. Rec'd—6/8/2009. Est. Value—$500.00. Location—Retained in Administrator's office as an official gift | The Honorable Joesp Puxeu Rocamora, Secretary of State for Rural and Water Affairs, Ministry of the Environment and Rural Marine Affairs of the Kingdom of Spain | Non-acceptance would cause embarrassment to donor and U.S. Government.

AGENCY: Department of Commerce
[Report of Tangible Gifts]
Name and title of person accepting the gift on behalf of the U.S. Government | Gift, date of acceptance on behalf of the U.S. Government, estimated value, and current disposition or location | Identity of foreign donor and government | Circumstances justifying acceptance
The Honorable Gary F. Locke, Secretary of Commerce of the United States | Framed picture of a Bedouin necklace. Rec'd—4/29/2009. Est. Value—$500.00. Disposition—Retained for Official Use | His Excellency Abdullah bin Ahmed bin Yosef Zainal Alireza, Ministry of Commerce and Industry of the Kingdom of Saudi Arabia | Non-acceptance would cause embarrassment to donor and U.S. Government.
The Honorable Gary F. Locke, Secretary of Commerce of the United States | Chinese landscaping painting scroll. Rec'd—12/14/2009. Est. Value—$400.00. Disposition—Pending Transfer to General Services Administration | His Excellency Hu Jintao, President of the People's Republic of China | Non-acceptance would cause embarrassment to donor and U.S. Government.

AGENCY: Department of Defense
[Report of Tangible Gifts]
Name and title of person accepting the gift on behalf of the U.S. Government | Gift, date of acceptance on behalf of the U.S. Government estimated value, and current disposition or location | Identity of foreign donor and government | Circumstances justifying acceptance
The Honorable Dr. James Clad, Deputy Assistant Secretary of Defense (Policy) of the United States | Two multi-colored carpets with blue border. Rec'd—1/12/2009. Est. Value—$700.00. Disposition—Pending Transfer to General Services Administration | His Excellency Vice Admiral Wasantha Karannagoda, Sri Lankan Navy of the Democratic Socialist Republic of Sri Lanka | Non-acceptance would cause embarrassment to donor and U.S. Government.
The Honorable Admiral Gary Roughead, Chief of Naval Operations of the United States | Metallic dagger with leather backing, leather belt and bone handle. Rec'd—11/9/2008. Est. Value—$525.00. Disposition—Pending Transfer to General Services Administration | His Excellency Vice Admiral Prince Fahd Bin Abdullah Bin Mohammed Bin Al Saud, Commander of the Royal Saudi Naval Forces of the Kingdom of Saudi Arabia | Non-acceptance would cause embarrassment to donor and U.S. Government.
The Honorable Admiral Gary Roughead, Chief of Naval Operations of the United States | Gold plated knife encased in glass. Rec'd—4/13/2008. Est. Value—$545.00. Disposition—Pending Transfer to General Services Administration | His Excellency Vice Admiral Prince Fahd Bin Abdullah Bin Mohammed Bin Al Saud, Commander of the Royal Saudi Naval Forces of the Kingdom of Saudi Arabia | Non-acceptance would cause embarrassment to donor and U.S. Government.
The Honorable Eric S. Edelman, Under Secretary of Defense (Policy) of the United States | Cartier Roller Diabolo De Cartier Composite Noir Pen. Rec'd—1/15/2009. Est. Value—$485.00. Disposition—Pending Transfer to General Services Administration | His Excellency Yousef Al Otaiba, Ambassador of the United Arab Emirates | Non-acceptance would cause embarrassment to donor and U.S. Government.
The Honorable David Sedney, Deputy Assistant Secretary of Defense (Policy) of the United States | Mont Blanc pen in black leather case. Rec'd—1/15/2009. Est. Value—$345.00. Disposition—Pending Transfer to General Services Administration | His Excellency Jason Yuan, Taiwan Representative to the United States, Taiwan | Non-acceptance would cause embarrassment to donor and U.S. Government.
The Honorable Mary Beth Long, Assistant Secretary of Defense (Policy) of the United States | Gold bracelet with blue stone scarabs in a purple velvet bracelet box. Rec'd—1/15/2009. Est. Value—$565.00. Disposition—Pending Transfer to General Services Administration | His Excellency Lieutenant General Samy Enan, Chief of Staff Egyptian Armed Forces of the Arab Republic of Egypt | Non-acceptance would cause embarrassment to donor and U.S. Government.
The Honorable Dr. James Clad, Deputy Assistant Secretary of Defense (Policy) of the United States | Round silver repousee tray brown wooden box. Rec'd—1/12/2009. Est. Value—$650.00. Disposition—Pending Transfer to General Services Administration | His Excellency General Gardihewa Sarath Chandralal Fonseka, Sri Lankan Army of the Democratic Socialist Republic of Sri Lanka | Non-acceptance would cause embarrassment to donor and U.S. Government.
The Honorable Michael G. Vickers, Assistant Secretary of Defense (SO/LIC&IC) of the United States | Black coin plaque. Rec'd—1/15/2009. Est. Value—$390.00. Disposition—Pending Transfer to General Services Administration | His Excellency Admiral Raul Santos Galvan Villanueva, Mexican Navy of the United Mexican States | Non-acceptance would cause embarrassment to donor and U.S. Government.
The Honorable General James E. Cartwright, Vice Chairman of the Joint Chiefs of Staff of the United States | Cartier pen with box. Rec'd—3/4/2009. Est. Value—$345.00. Disposition—Pending Transfer to General Services Administration | Embassy Representative of the United Arab Emirates | Non-acceptance would cause embarrassment to donor and U.S. Government.
The Honorable David Sedney, Deputy Assistant Secretary of Defense (Policy) of the United States | Oriental rug. Rec'd—2/16/2009. Est. Value—$400.00. Disposition—Pending Transfer to General Services Administration | His Excellency Gul Agha Sherzai, Governor of Nangarhar Province of the Islamic Republic of Afghanistan | Non-acceptance would cause embarrassment to donor and U.S. Government.
The Honorable Admiral Michael G. Mullen USN, Chairman of the Joint Chiefs of Staff of the United States | Rug. Rec'd—3/11/2009. Est. Value—$350.00. Disposition—Pending Transfer to General Services Administration | His Excellency General Ahsan Saleem Hyat, Chief of Army Staff of the Islamic Republic of Pakistan | Non-acceptance would cause embarrassment to donor and U.S. Government.
The Honorable Admiral Michael G. Mullen USN, Chairman of the Joint Chiefs of Staff of the United States | Fold-up desk plaque. Rec'd—3/5/2009. Est. Value—$650.00. Disposition—Pending Transfer to General Services Administration | Chairman of Defense of the Republic of Peru | Non-acceptance would cause embarrassment to donor and U.S. Government.
The Honorable Admiral Michael G. Mullen USN, Chairman of the Joint Chiefs of Staff of the United States | Bottle of tequila and laminate plaque. Rec'd—3/6/2009. Est. Value—$435.00. Disposition—Pending Transfer to General Services Administration | His Excellency Admiral Raul Santos Galvan Villanueva, Mexican Navy of the United Mexican States | Non-acceptance would cause embarrassment to donor and U.S. Government.
The Honorable Admiral Michael G. Mullen USN, Chairman of the Joint Chiefs of Staff of the United States | Glass sword in shadow box. Rec'd—3/5/2009. Est. Value—$485.00. Disposition—Pending Transfer to General Services Administration | His Excellency General Freddy Padilla de Leon, Commander of the Colombian Armed Forces of the Republic of Colombia | Non-acceptance would cause embarrassment to donor and U.S. Government.
The Honorable Admiral Michael G. Mullen USN, Chairman of the Joint Chiefs of Staff of the United States | Name plate. Rec'd—6/5/2009. Est. Value—$560.00. Disposition—Pending Transfer to General Services Administration | Government Official of the Korean Naval Group of the Republic of Korea | Non-acceptance would cause embarrassment to donor and U.S. Government.
The Honorable Admiral Michael G. Mullen USN, Chairman of the Joint Chiefs of Staff of the United States | Silverware set and cloth robe. Rec'd—2/26/2009. Est. Value—$780.00. Disposition—Pending Transfer to General Services Administration | His Excellency Lieutenant General Jean T. Kahwagi, Chairman of Defense of the Republic of Lebanon | Non-acceptance would cause embarrassment to donor and U.S. Government.
The Honorable Nancy Dowling, Senior Procurement Analyst (Acquisition, Technology & Logistics) of the United States | Pen set and engraved wooden case. Rec'd—6/15/2009. Est. Value—$360.00. Disposition—Pending Transfer to General Services Administration | His Excellency Brigadier General Spyridon Katsaros, General Secretariat of Financial Planning of the Hellenic Republic | Non-acceptance would cause embarrassment to donor and U.S. Government.
The Honorable Admiral Michael G. Mullen USN, Chairman of the Joint Chiefs of Staff of the United States | Wool/trival coat. Rec'd—3/9/2009. Est. Value—$340.00. Disposition—Pending Transfer to General Services Administration | Afghanistan Governmental Official, of the Islamic Republic of Afghanistan | Non-acceptance would cause embarrassment to donor and U.S. Government.
The Honorable Admiral Michael G. Mullen USN, Chairman of the Joint Chiefs of Staff of the United States | Turquoise cross pendant with gold chain. Rec'd—4/21/2009. Est. Value—$425.00. Disposition—Pending Transfer to General Services Administration | His Excellency Lieutenant General Samy Enan, Chief of Staff Egyptian Armed Forces of the Arab Republic of Egypt | Non-acceptance would cause embarrassment to donor and U.S. Government.
The Honorable Robert M. Gates, Secretary of Defense of the United States | Rifle. Rec'd—04/21/2009. Est. Value—$900.00. Disposition—Pending Transfer to General Services Administration | Their Majesties The King and Queen of the Hashemite Kingdom of Jordan | Non-acceptance would cause embarrassment to donor and U.S. Government.
The Honorable Admiral Michael G. Mullen USN, Chairman of the Joint Chiefs of Staff of the United States | Wooden plaque and gold plated pocket watch. Rec'd—06/03/2009. Est. Value—$665.00. Disposition—Pending Transfer to General Services Administration | His Excellency General Iiker Basbug, Commander Turkish Armed Forces of the Republic of Turkey | Non-acceptance would cause embarrassment to donor and U.S. Government.
The Honorable General James E. Cartwright, Vice Chairman of the Joint Chiefs of Staff of the United States | Book “Los Rostros de la Marine”; Hermes tie; 5 oz silver coin. Rec'd—4/3/2009. Est. Value—$365.00. Disposition—Pending Transfer to General Services Administration | His Excellency Admiral Raul Santos Galvan Villanueva, Mexican Navy of the United Mexican States | Non-acceptance would cause embarrassment to donor and U.S. Government.
The Honorable General James N. Mattis, Supreme Allied Commander Transformation and Commander U.S. Joint Forces Command of the United States | Silver men's automatic water resistant wrist watch, stainless steel with sapphire crystal by Maurice LaCroix of Switzerland. Rec'd—01/18/2009. Est. Value—$2,100.00. Disposition—Pending Transfer to General Services Administration | His Excellency Major General Hadad Al-Attiyah, Chief of Defense of the State of Qatar | Non-acceptance would cause embarrassment to donor and U.S. Government.
The Honorable Admiral Michael G. Mullen USN, Chairman of the Joint Chiefs of Staff of the United States | Silver business card holder; Book: Mannerheim with CD; Glass duck; Ultima thule, Arctic explorations. Rec'd—03/12/2009. Est. Value—$470.00. Disposition—Pending Transfer to General Services Administration | His Excellency Admiral Juhani Kaskeala, Chief of Defense of the Republic of Finland | Non-acceptance would cause embarrassment to donor and U.S. Government.
The Honorable Admiral Michael G. Mullen USN, Chairman of the Joint Chiefs of Staff of the United States | Silver vase. Rec'd—04/21/2009. Est. Value—$450.00. Disposition—Pending Transfer to General Services Administration | His Excellency Lieutenant General Samy Enan, Chief of Staff Egyptian Armed Forces of the Arab Republic of Egypt | Non-acceptance would cause embarrassment to donor and U.S. Government.
The Honorable Admiral Michael G. Mullen USN, Chairman of the Joint Chiefs of Staff of the United States | Tribal rug. Rec'd—04/24/2009. Est. Value—$425.00. Disposition—Pending Transfer to General Services Administration | His Excellency Del Bar Jan Arman, Governor of Zabul Province of the Islamic Republic of Afghanistan | Non-acceptance would cause embarrassment to donor and U.S. Government.
The Honorable Admiral Michael G. Mullen USN, Chairman of the Joint Chiefs of Staff of the United States | Set of highball glasses with silver rim and Yeditepe vase. Rec'd—06/02/2009. Est. Value—$725.00. Disposition—Pending Transfer to General Services Administration | His Excellency General Iiker Basbug, Commander Turkish Armed Forces of the Republic of Turkey | Non-acceptance would cause embarrassment to donor and U.S. Government.
The Honorable Dr. Ashton B. Carter, Under Secretary of Defense (Acquisition, Technology and Logistics) of the United States | Brazilian rocks; decorative part in pink quartz, green quartz, onyx and natural amethyst. Rec'd—05/20/2009. Est. Value—$400.00. Disposition—Pending Transfer to General Services Administration | His Excellency Nelson Jobin, Minister of Defense of the Federative Republic of Brazil | Non-acceptance would cause embarrassment to donor and U.S. Government.
The Honorable Madeline LePage, Special Assistant to the Under Secretary of Defense (Policy) of the United States | Decorative jewelry box; Dress with floral design; Green pants of a silk material; Shawl with gold tone fringes. Rec'd—04/07/2009. Est. Value—$365.00. Disposition—Pending Transfer to General Services Administration | His Excellency Gul Agha Sherzai, Governor of Nangarhar Province of the Islamic Republic of Afghanistan | Non-acceptance would cause embarrassment to donor and U.S. Government.
The Honorable Michele A. Flournoy, Under Secretary of Defense (Policy) of the United States | Ancient glass vessels. Rec'd—5/19/2009. Est. Value—$365.00. Disposition—Pending Transfer to General Services Administration | His Excellency Pinchas Buchris, Director General, Ministry of Defense of the State of Israel | Non-acceptance would cause embarrassment to donor and U.S. Government.
The Honorable Michele A. Flournoy, Under Secretary of Defense (Policy) of the United States | Blue lapis box and vase. Rec'd—4/7/2009. Est. Value—$350.00. Disposition—Pending Transfer to General Services Administration | His Excellency Abdul R. Wardak, General, Ministry of Defense of the Islamic Republic of Afghanistan | Non-acceptance would cause embarrassment to donor and U.S. Government.
The Honorable Colin Kahl, Deputy Assistant Secretary of Defense of the United States | Dagger. Rec'd—4/29/2009. Est. Value—$400.00. Disposition—Pending Transfer to General Services Administration | His Excellency Lieutenant General Dr. Sheikh Mohammed bin Abdulla al-Khalifa, & General Khalifa bin Ahmed al-Khalifa, of the Kingdom of Bahrain | Non-acceptance would cause embarrassment to donor and U.S. Government.
The Honorable Robert M. Gates, Secretary of Defense of the United States | Small crystal “Cheval Pendullete Jumping” Baccarat clock . Rec'd—4/08/2009. Est. Value—$385.00. Disposition—Pending Transfer to General Services Administration | His Excellency Elias Murr, Minister of Defense of the Republic of Lebanon | Non-acceptance would cause embarrassment to donor and U.S. Government.
The Honorable Robert M. Gates, Secretary of Defense of the United States | Shotgun (serial number 4174) and 5 bullets; Egyptian Armed Forces plaque; Hanging Egyptian rug art; Silver picture frame with picture; Gold photo album with pictures. Rec'd—5/4/2009. Est. Value—$985.00. Disposition—Pending Transfer to General Services Administration | His Excellency Field Marshal Mohamed Hussein Tantawi Soliman, Minister of Defense of the Arab Republic of Egypt | Non-acceptance would cause embarrassment to donor and U.S. Government.
The Honorable Robert M. Gates, Secretary of Defense of the United States | Silver display plate; Wooden trunk; Picture of Gilberto C. Teodoro Jr. and Secretary Robert M. Gates; Cigars in wood carved box with the Secretary of Defense's name. Rec'd—5/30/2009. Est. Value—$1,425.00. Disposition—Pending Transfer to General Services Administration | His Excellency Gilberto C. Teodoro Jr., Secretary of National Defense of the Republic of the Philippines | Non-acceptance would cause embarrassment to donor and U.S. Government.
The Honorable Robert M. Gates, Secretary of Defense of the United States | Gold country plaque with display case. Rec'd—5/05/2009. Est. Value—$485.00. Disposition—Pending Transfer to General Services Administration | His Excellency Abdullah bin Abdul Aziz Al Saud, Prime Minister of the Kingdom of Saudi Arabia | Non-acceptance would cause embarrassment to donor and U.S. Government.
The Honorable Robert M. Gates, Secretary of Defense of the United States | Silver vase; Gold and china display plate. Rec'd—6/03/2009. Est. Value—$605.00. Disposition—Pending Transfer to General Services Administration | His Excellency Mehmet Vecdi Gönül, Minister of Defense of the Republic of Turkey | Non-acceptance would cause embarrassment to donor and U.S. Government.
The Honorable Robert M. Gates, Secretary of Defense of the United States | Wooden plaque—Shangri-La Dialogue; Wooden and golden plaque. Rec'd—5/27/2009. Est. Value—$405.00. Disposition—Pending Transfer to General Services Administration | His Excellency General Phung Quang Thanh, Minister of Defense of the Socialist Republic of Vietnam | Non-acceptance would cause embarrassment to donor and U.S. Government.
The Honorable Robert M. Gates, Secretary of Defense of the United States | Leather photo album from the Philippines. Rec'd—7/17/2009. Est. Value—$400.00. Disposition—Pending Transfer to General Services Administration | His Excellency Gilberto C. Teodoro Jr., Secretary of National Defense of the Republic of the Philippines | Non-acceptance would cause embarrassment to donor and U.S. Government.
The Honorable Robert M. Gates, Secretary of Defense of the United States | Gold necklace. Rec'd—6/22/2009. Est. Value—$516.00. Disposition—Pending Transfer to General Services Administration | His Excellency Lieutenant General Samy Enan, Chief of Staff Egyptian Armed Forces of the Arab Republic of Egypt | Non-acceptance would cause embarrassment to donor and U.S. Government.
The Honorable Robert M. Gates, Secretary of Defense of the United States | Mother of Pearl dish set; Mother of pearl purse; Mother of pearl rosary beads; Hand crafted hand fan; Book “A First Look at Philippine Flowers;” Book “100 Events That Shaped The Philippines;” Book “A Pictorial Cyclopedia Of Philippine Ornamental Plants.” Rec'd—6/01/2009. Est. Value—$361.00. Disposition—Pending Transfer to General Services Administration | Her Excellency Monica Prieto-Teodoro, Representative of the First District of Tarlac Province of the Republic of the Philippines | Non-acceptance would cause embarrassment to donor and U.S. Government.
The Honorable Admiral Michael G. Mullen USN, Chairman of the Joint Chiefs of Staff of the United States | Silver plated vase; Gold plated Egyptian necklace. Rec'd—6/19/2009. Est. Value—$630.00. Disposition—Pending Transfer to General Services Administration | His Excellency Lieutenant General Samy Enan, Chief of Staff Egyptian Armed Forces of the Arab Republic of Egypt | Non-acceptance would cause embarrassment to donor and U.S. Government.
The Honorable Robert M. Gates, Secretary of Defense of the United States | Silver wine vase. Rec'd—6/22/2009. Est. Value—$750.00. Disposition—Pending Transfer to General Services Administration | His Excellency Lieutenant General Samy Enan, Chief of Staff Egyptian Armed Forces of the Arab Republic of Egypt | Non-acceptance would cause embarrassment to donor and U.S. Government.
The Honorable Robert M. Gates, Secretary of Defense of the United States | Williams and Son silver clock with leather casing. Rec'd—6/24/2009. Est. Value—$675.00. Disposition—Pending Transfer to General Services Administration | His Excellency Prince Salman Bin Hamad Bin Isa Al-Khalifa, Prince and Deputy Supreme Commander of the Kingdom of Bahrain | Non-acceptance would cause embarrassment to donor and U.S. Government.
The Honorable Robert M. Gates, Secretary of Defense of the United States | Award—Republica De Colombia Orden De San Carlos Grado, Gran Cruz and Certificate Certification for Colombian Award. Rec'd—11/10/2008. Est. Value—$645.00. Disposition—Pending Transfer to General Services Administration | His Excellency Alvaro Uribe Velez, President of the Republic of Colombia | Non-acceptance would cause embarrassment to donor and U.S. Government.
The Honorable Robert M. Gates, Secretary of Defense of the United States | Gold display. Rec'd—7/23/2009. Est. Value—$400.00. Disposition—Pending Transfer to General Services Administration | His Excellency Nouri al-Maliki, Prime Minister of the Republic of Iraq | Non-acceptance would cause embarrassment to donor and U.S. Government.
The Honorable Admiral Michael G. Mullen USN, Chairman of the Joint Chiefs of Staff of the United States | Crystal wine decanter, small glasses, and platter; Small silver candy dish. Rec'd—6/26/2009. Est. Value—$350.00. Disposition—Pending Transfer to General Services Administration | His Excellency General Nikolai Makarov, Chief of the General Staff of the Armed Forces of the Russian Federation | Non-acceptance would cause embarrassment to donor and U.S. Government.
The Honorable Admiral Michael G. Mullen USN, Chairman of the Joint Chiefs of Staff of the United States | Medium tribal rug. Rec'd—7/15/2009. Est. Value—$450.00. Disposition—Pending Transfer to General Services Administration | Afghanistan Village Elders, Islamic Republic of Afghanistan | Non-acceptance would cause embarrassment to donor and U.S. Government.
The Honorable Admiral Michael G. Mullen USN, Chairman of the Joint Chiefs of Staff of the United States | Large Commander's sword. Rec'd—6/28/2009. Est. Value—$440.00. Disposition—Pending Transfer to General Services Administration | His Excellency General Franciszek Gagor, Chief of General Staff Poland Armed Forces of the Republic of Poland | Non-acceptance would cause embarrassment to donor and U.S. Government.
The Honorable Admiral Michael G. Mullen USN, Chairman of the Joint Chiefs of Staff of the United States | Plaque, clear crystal octagon faced with tag “Indian Army” flanked by two enameled flags over silver tone status of lions over crossed swords over row of 4 five-pointed stars, set into flaring base with affixed presentation tag from Kapoor; Photo frame, silver plate, arched top engraved “Indian Army” over 3 lions over crossed swords over row of 5 stars over aperture with beaded surround over engraved presentation name of Kapoor; Scarf, cashmere, light green, in quilted bag with flower-shaped clasp of orangegoldtone plastic; Book, Hardcover, “Blood and Guts, The Saga of Indian Arms”; Set of 4 CDs titled “Martial Music & Indian Army”. Rec'd—7/21/2009. Est. Value—$366.00. Disposition—Pending Transfer to General Services Administration | His Excellency General Deepak Kapoor, Chief of Army Staff of the Republic of India | Non-acceptance would cause embarrassment to donor and U.S. Government.
The Honorable Robert M. Gates, Secretary of Defense of the United States | Military dagger with sheath in wooden presentation box; Sterling silver note pad with Royal Insignia. Rec'd—7/27/2009. Est. Value—$445.00. Disposition—Pending Transfer to General Services Administration | His Majesty King Abdullah II bin Al Hussein, King of the Hashemite Kingdom of Jordan | Non-acceptance would cause embarrassment to donor and U.S. Government.
The Honorable Robert M. Gates, Secretary of Defense of the United States | Bottle of Gran Centenario tequila; Replica of sabre used by General Jose Maria Morelos during the Siege of Cuatla in 1812; Black lacquer country plaque. Rec'd—7/30/2009. Est. Value—$460.00. Disposition—Pending Transfer to General Services Administration | His Excellency General Guillermo Galvan, Secretary of National Defense of the United Mexican States | Non-acceptance would cause embarrassment to donor and U.S. Government.
The Honorable Ambassador Alexander Vershbow, Assistant Secretary of Defense (Policy) of the United States | Bottle of Givenchy “ange ou etrange” eau de parfum, 3.3 fl oz.; Bottle of Givenchy “Very Irresistible Summer Cocktail” eau de toilette, 3.3 fl oz.; Black leatherette wallet by Givenchy; Wristwatch, men, Yonger & Bresson “Arabesque” having white Arabic numerals on dark brown round face with date window above 6 o'clock position, copper tone case, brown leather strap; Women's Jewelry Set in white gold with diamonds; ring having crescent of 7 baguette diamonds over two “J” forms of round diamonds flanked by “V” forms of round diamonds, 5.5 grams; pendant of ribbon loops and ellipsoids of baguette-shape and round diamonds with 3 loops at top and crescent in center, stamped 18K, 17.2 grams; white gold 17” neck chain stamped “750” (indicating 18K), 3.6 grams, pair of earrings with post and clip, stamped 18K, each consisting of 2 “J” forms of round diamonds topped by crescent of baguette diamonds, beneath 2 horseshoe-shaped looks, 3 ellipsoids and a disk of diamonds, 15.2 grams/pair. Rec'd—7/21/2009. Est. Value—$7,856.00. Disposition—Pending Transfer to General Services Administration | His Excellency Major General Hamad Bin Ali al-Attiyah, Chief of Staff of the Qatar Armed Forces of the State of Qatar | Non-acceptance would cause embarrassment to donor and U.S. Government.
The Honorable Robert M. Gates, Secretary of Defense of the United States | The Chu-nyeo Ma-ru desktop set. Rec'd—9/2/2009. Est. Value—$450.00. Disposition—Pending Transfer to General Services Administration | His Excellency Lee Myung-bak, President of the Republic of Korea | Non-acceptance would cause embarrassment to donor and U.S. Government.
The Honorable Celeste A. Wallander, Deputy Assistant Secretary of Defense (Policy) of the United States | Desk clock. Rec'd—8/4/2009. Est. Value—$380.00. Disposition—Pending Transfer to General Services Administration | His Excellency Hideo Suzuki, Minister Political Section, Embassy of Japan | Non-acceptance would cause embarrassment to donor and U.S. Government.
The Honorable Michele A. Flournoy, Under Secretary of Defense (Policy) of the United States | Photo album, machine cardboard sleeve, blue fabric-clad cover with gold tone star over “With the Compliments of the People's Liberation Army of China,” containing 27 polychrome photos of Americans and Chinese; Scroll, ink and color, depicting mountains/gorges with autumnal foliate, including waterfall and village. Rec'd—6/24/2009. Est. Value—$1,035.00. Disposition—Pending Transfer to General Services Administration | His Excellency Lieutenant General Ma Xiaotian, Deputy Chief of the General Staff of the People's Republic of China | Non-acceptance would cause embarrassment to donor and U.S. Government.
The Honorable James N. Miller, Principal Deputy Under Secretary of Defense (Policy) of the United States | Pyramid, clear crystal by Val Saint Lambert, indented band, incised “Kingdom of Belgium” over roundel of crown over standing lion within band of 5-pointed stars. Rec'd—7/15/2009. Est. Value—$385.00. Disposition—Pending Transfer to General Services Administration | His Excellency Pieter De Cram, Minister of Defense of the Kingdom of Belgium | Non-acceptance would cause embarrassment to donor and U.S. Government.
The Honorable Admiral Michael G. Mullen USN, Chairman of the Joint Chiefs of Staff of the United States | Bottle of Tequila Aero “Reserve del Tequilero Gran Centenario”; Plaque, shield form painted black, fronted by four 5-pointed silver stars over gold tone bird with snake in its beak over cactus; Tray, rectangular, hand painted bands of floral design on blue background, canted sides; Box, cuprous-color metal, round domed lid, 7-petal rosettes and foliate scrolls; Scarf, silk, printed dots/stripes/diamonds in pink/purple/orange; Saber, miniature, 14”, leatherette scabbard with brass mounts. Rec'd—7/9/2009. Est. Value—$810.00. Disposition—Pending Transfer to General Services Administration | His Excellency General Guillermo Galvan, Secretary of National Defense of the United Mexican States | Non-acceptance would cause embarrassment to donor and U.S. Government.
The Honorable Admiral Michael G. Mullen USN, Chairman of the Joint Chiefs of Staff of the United States | Statue of mariner standing over coiled rope at ship's wheel, silver tone cast resin; Bottle of Pinot Noir red wine, harvest of 1946 “Statiunea de Cervetari/Viticole Murfatlar”; Composition material with 2 silver quarter-round bands with repousse ship's wheels w/2 bottle stoppers of polished metal cone with wood knob ends, silver tone ring drip stop collar and corkscrew with rosewood-type wood panels; Book, Hardcover, “Romania”. Rec'd—8/6/2009. Est. Value—$720.00. Disposition—Pending Transfer to General Services Administration | His Excellency Admiral Gheorghi Marin, Chief of General Staff, Romania | Non-acceptance would cause embarrassment to donor and U.S. Government.
The Honorable Dr. Diane T. Putney, Acting Director Office of the Secretary of Defense Historical Office of the United States | Picture—Pavilion beside a lake surrounded by flowering trees made of colored crushed stone; Book, Hardcover, English-Vietnamese Military Dictionary; Book, Paperback, “The Tet Mau Than 1968 Event in South Vietnam”; Book, Paperback, “Memoirs of War: The Tran-Troung Son Route”; Plate, Copper, Hollow, entrance gate to a walled city in Hanoi, w/brass plate stand; Plate, Copper, Hollow, pavilion raised on posts in Hanoi w/brass plate stand; Necktie, silk w/red bands and alternating w/black ellipsoids on gray bands; Necktie, silk w/pink/blue/black diagonal bands plus diagonal red line; Necktie, silk, w/elongated octagonal medallions containing ovoids w/scalloped edge on red background. Rec'd—8/31/2009. Est. Value—$560.00. Disposition—Pending Transfer to General Services Administration | His Excellency Colonel Ma Pham Ba Toan, Director/Editor-in-Chief of the People's Army Publishing House, Socialist Republic of Vietnam | Non-acceptance would cause embarrassment to donor and U.S. Government.
The Honorable Michael Schiffer, Deputy Assistant Secretary of Defense (Policy) of the United States | Glass bookends by Tittot, surmounted by a green 3-toed dragon. Rec'd—7/30/2009. Est. Value—$365.00. Disposition—Pending Transfer to General Services Administration | His Excellency Lee Hai-tug, Deputy Secretary General of Taiwan National Security Council, Taiwan | Non-acceptance would cause embarrassment to donor and U.S. Government.
The Honorable Admiral Michael G. Mullen USN, Chairman of the Joint Chiefs of Staff of the United States | Plaque, clear frosted crystal rectangle with UAE Armed Forces roundel over “UAE Traditional Boat” with five depictions of boats; Knife (“Jambiya”), with curved steel blade secured in waisted wood handle with applied silver and gilt metal decoration. Rec'd—10/8/2009. Est. Value—$965.00. Disposition—Pending Transfer to General Services Administration | His Excellency Lieutenant General Thani Al-Romaithi, Chief of Armed Forces Staff of the United Arab Emirates | Non-acceptance would cause embarrassment to donor and U.S. Government.
The Honorable Admiral Michael G. Mullen USN, Chairman of the Joint Chiefs of Staff of the United States | Haft hand-carved tiki axe with green blade secured by black cord to carved wood handle with inset mother-of-pearl eyes and scrollwork. Rec'd—10/13/2009. Est. Value—$480.00. Disposition—Pending Transfer to General Services Administration | His Excellency Lieutenant General Jerry Mateparae, Chief of Defence Force of New Zealand | Non-acceptance would cause embarrassment to donor and U.S. Government.
The Honorable Admiral Michael G. Mullen USN, Chairman of the Joint Chiefs of Staff of the United States and Spouse | Givenchy ladies watch; six boxes of assorted perfume; silk scarf; ladies top. Rec'd—10/8/2009. Est. Value—$1,350.00. Disposition—Pending Transfer to General Services Administration | Her Excellency Mrs. Humad Mohamed Thani Al-Ramaithi, Spouse, Chief of Staff, United Arab Emirates Armed Forces of the United Arab Emirates | Non-acceptance would cause embarrassment to donor and U.S. Government.
The Honorable Robert M. Gates, Secretary of Defense of the United States | Chinese chop in a wooden display box; Chinese country plaque with white glove; Picture of likeness of Secretary of Defense Robert Gates. Rec'd—10/27/2009. Est. Value—$755.00. Disposition—Pending Transfer to General Services Administration | His Excellency General Xu Caihou, Vice Chairman of the Central Military Commission of the People's Republic of China | Non-acceptance would cause embarrassment to donor and U.S. Government.
The Honorable William Wechsler, Deputy Assistant Secretary of Defense (Policy) of the United States | Carpet. Rec'd—10/5/2009. Est. Value—$400.00. Disposition—Pending Transfer to General Services Administration | His Excellency General Abdul Rahim Wardak, Minister of Defense of the Islamic Republic of Afghanistan | Non-acceptance would cause embarrassment to donor and U.S. Government.
The Honorable William Wechsler, Deputy Assistant Secretary of Defense (Policy) of the United States | Carpet. Rec'd—10/5/2009. Est. Value—$650.00. Disposition—Pending Transfer to General Services Administration | His Excellency General Khadaidad, Minister of Counternarcotics of the Islamic Republic of Afghanistan | Non-acceptance would cause embarrassment to donor and U.S. Government.
The Honorable Michele A. Flournoy, Under Secretary of Defense (Policy) of the United States | Layan Al Khalediah (2006) Arabian horse statue. Rec'd—11/17/2009. Est. Value—$460.00. Disposition—Pending Transfer to General Services Administration | His Royal Highness Khalid bin Sultan of the Kingdom of Saudi Arabia | Non-acceptance would cause embarrassment to donor and U.S. Government.
The Honorable Robert M. Gates, Secretary of Defense of the United States | Box of Toliq Halwachy Mana natural sweets; Carpet with image and writing in reference to the “Fort of Irbil” or “Irbil Fort,” the capital of the Kurdish Region. Rec'd—10/7/2009. Est. Value—$395.00. Disposition—Pending Transfer to General Services Administration | His Excellency Jalal Talabani, President of the Republic of Iraq | Non-acceptance would cause embarrassment to donor and U.S. Government.
The Honorable Admiral Michael G. Mullen USN, Chairman of the Joint Chiefs of Staff of the United States | Small plaque; figurine gift set; ladies clutch (purse). Rec'd—10/30/2009. Est. Value—$415.00. Disposition—Pending Transfer to General Services Administration | His Excellency Admiral Songkitti Jaggabatara, Chief of Defence Forces, Royal Thai Armed Forces of the Kingdom of Thailand | Non-acceptance would cause embarrassment to donor and U.S. Government.
The Honorable Cynthia Carras, Country Director for China of the United States | Pearl necklace. Rec'd—10/30/2009. Est. Value—$650.00. Disposition—Pending Transfer to General Services Administration | His Excellency General Xu Caihou, Vice Chairman of the Central Military Commission of the People's Republic of China | Non-acceptance would cause embarrassment to donor and U.S. Government.
The Honorable Robert M. Gates, Secretary of Defense of the United States | Ceramic model of the Reichstag German Parliament building. Rec'd—11/19/2009. Est. Value—$425.00. Disposition—Pending Transfer to General Services Administration | His Excellency Karl-Theodor zu Guttenberg, Minister of Defense of the Federal Republic of Germany | Non-acceptance would cause embarrassment to donor and U.S. Government.
The Honorable General James E. Cartwright, Vice Chairman of the Joint Chiefs of Staff of the United States | Tittot glass. Rec'd—10/29/2009. Est. Value—$365.00. Disposition—Pending Transfer to General Services Administration | His Excellency General Wu Dar-Pong, Vice Chief of General Staff, Taiwan | Non-acceptance would cause embarrassment to donor and U.S. Government.
The Honorable William J. Lynn III, Deputy Secretary of Defense of the United States | Chinese art painting on scroll. Rec'd—10/27/2009. Est. Value—$580.00. Disposition—Pending Transfer to General Services Administration | His Excellency General Xu Caihou, Vice Chairman of the Central Military Commission of the People's Republic of China | Non-acceptance would cause embarrassment to donor and U.S. Government.

AGENCY: Department of Justice
[Report of Tangible Gifts]
Name and title of person accepting the gift on behalf of the U.S. Government | Gift, date of acceptance on behalf of the U.S. Government, estimated value, and current disposition or location | Identity of foreign donor and government | Circumstances justifying acceptance
The Honorable Eric H. Holder, Jr., Attorney General of the United States | Ceremonial sword with case. Rec'd—8/26/09. Est. Value—$350.00. Disposition—Pending Transfer to the General Services Administration, DOJ/JMD/FASS | The Honorable Dr. Ali Bin Fetais Al-Marri, Attorney General of the State of Qatar | Non-acceptance would cause embarrassment to donor and U.S. Government.
The Honorable Eric H. Holder, Jr., Attorney General of the United States | Men's Rolex watch. Rec'd—11/08/09. Est. Value—$10,008.00. Disposition—Pending Transfer to the General Services Administration, DOJ/JMD/FASS | The Honorable Dr. Ali Bin Fetais Al-Marri, Attorney General of the State of Qatar | Non-acceptance would cause embarrassment to donor and U.S. Government.
The Honorable Eric H. Holder, Jr., Attorney General of the United States | Women's Rolex watch. Rec'd—11/08/09. Est. Value—$10,023.00. Disposition—Pending Transfer to the General Services Administration, DOJ/JMD/FASS | The Honorable Dr. Ali Bin Fetais Al-Marri, Attorney General of the State of Qatar | Non-acceptance would cause embarrassment to donor and U.S. Government.
The Honorable Eric H. Holder, Jr., Attorney General of the United States | Large box with Russian coins/medallions (14). Rec'd—11/03/09. Est. Value—$500.00. Disposition—Pending Transfer to the General Services Administration, DOJ/JMD/FASS | The Honorable Aleksander V. Konovalov, Minister of Justice of the Russian Federation | Non-acceptance would cause embarrassment to donor and U.S. Government.

AGENCY: Department of the Air Force
[Report of Tangible Gifts]
Name and title of person accepting the gift on behalf of the U.S. Government | Gift, date of acceptance on behalf of the U.S. Government, estimated value, and current disposition or location | Identity of foreign donor and government | Circumstances justifying acceptance
Lt Gen Gary L. North, 9 AF/CC, USAF Central Command Air Forces, Shaw AFB, SC | 18K gold 16″ chain adorned with a diamond, ruby & pearl pendant. Rec'd—3/16/2008. Est. Value—$1,890.00. Disposition—Pending Transfer to General Services Administration | Maj Gen Hamad Al Atiya, Chief of Staff of the Qatari Armed Forces, State of Qatar | Non-acceptance would cause embarrassment to donor and U.S. Government.
Lt Gen Gary L. North, 9 AF/CC, USAF Central Command Air Forces, Shaw AFB, SC | The Black Predator Titanium watch, black titanium. Rec'd—5/1/2008. Est. Value—$550.00. Disposition—Pending Transfer to General Services Administration | Prince Faisal bin Al Hussein, Amman, Jordan, Royal Jordanian Air Force, Hashemite Kingdom of Jordan | Non-acceptance would cause embarrassment to donor and U.S. Government.
Captain Daniel E. Rueth, Combined Air Power Transition Force (CAPTF) Executive Officer, Kabul, Afghanistan | 3′ x 5′ Afghan wool rug, red, blue, and tan design with tan fringe. Rec'd—5/14/2009. Est. Value—$400.00. Disposition—retained at the Headquarters in Afghanistan | Brig Gen Aref, Commander of the Afghan National Army Air Corps (ANAAC), Islamic Republic of Afghanistan | Non-acceptance would cause embarrassment to donor and U.S. Government.
The Honorable Michael B. Donley, Secretary of the Air Force, Washington, DC | 4′ x 6′ Afghan wool rug, tan with Gold & red design & tan fringe. Rec'd—8/28/2009. Est. Value—$550.00. Disposition—Currently on display at the Pentagon, Rm 4E878 | Major General Mohammed Darwan, Afghan National Army Air Corps Commander, Islamic Republic of Afghanistan | Non-acceptance would cause embarrassment to donor and U.S. Government.
Captain Eric G. Alvarez, Assistant Flight Commander, 37th Expeditionary Bomb Squardron (37 EBS), Al Udeid Air Base, Qatar | Lancaster stainless steel silver watch; Givenchy Pi Fraicheur Eau de Toilette, 3.3 oz; Givenchy “Amarige Mariage Eau de Parfume”, 3.3 oz; White gold pendant with diamonds in the shape of five intertwined hearts. Rec'd—4/6/2008. Est. Value—$1,302.00. Disposition—Pending Transfer to General Services Administration | Maj Gen Hamad Al Atiya, Chief of Staff of the Qatari Armed Forces, State of Qatar | Non-acceptance would cause embarrassment to donor and U.S. Government.
Major Norman F. Shelton, Assistant Flight Commander, 37th Expeditionary Bomb Squardron (37 EBS), Al Udeid Air Base, Qatar | Fenci Men's Classico watch; Givenchy “Ange ou Entrange Eau de Parfum”, 1.7; Givenchy “Very Irrestible Fresh Attitude Summer Cocktail Spray”, 3.3 oz; White gold pendant with a marquise shaped aquamarine accented with stars embedded with diamonds. Rec'd—4/6/2008. Est. Value—$1,412.00. Disposition—Pending Transfer to General Services Administration | Maj Gen Hamad Al Atiya, Chief of Staff of the Qatari Armed Forces, State of Qatar | Non-acceptance would cause embarrassment to donor and U.S. Government.
Capt Scott Martley, Assistant Flight Commander, 37th Expeditionary Bomb Squardron (37 EBS), Al Udeid Air Base, Qatar | Lancaster Black Universo Chrono Large watch, leather band; Givenchy “Very Irrestible Fresh Attitude Summer Cocktail Spray”, 3.3 oz; Givenchy “Ange eu Entrange Eau de Parfum”, 3.3 oz; White gold pendant with a marquise shaped aquamarine surrounded by seven hearts embedded with diamonds. Rec'd—4/6/2008. Est. Value—$2,772.00. Disposition—Pending Transfer to General Services Administration | Maj Gen Hamad Al Atiya, Chief of Staff of the Qatari Armed Forces, State of Qatar | Non-acceptance would cause embarrassment to donor and U.S. Government.
Capt Brett Sailsbery, Assistant Flight Commander, 37th Expeditionary Bomb Squardron (37 EBS), Al Udeid Air Base, Qatar | Lancaster Universo Chrono Large Gold Plated Date Watch, Leather Band; Givenchy Very Irrestible Eau de Toilette for Men 3.3 oz; Givenchy Very Irrestible Eau de Toilette for Women, 2.5 oz; White gold pendant and chain, large gray pear with spiral of diamonds on top. Rec'd—4/6/2008. Est. Value—$1,978.00. Disposition—Pending Transfer to General Services Administration | Maj Gen Hamad Al Atiya, Chief of Staff of the Qatari Armed Forces, State of Qatar | Non-acceptance would cause embarrassment to donor and U.S. Government.
Lt Gen Dana T. and Mrs. Atkins, 11 AF/CC, Elmendorf AFB, AK | Red Ceramic Teapot with matching cups; Coffee Table Book—World Heritage Sites in China; Traditional Chinese Peony Painting by the artist, Chen Yong Kang, personalized with handwritten dedication by artist & soft-cover gallery exhibit booklet. Rec'd—7/10/2008. Est. Value—$412.00. Disposition—Pending SAF/AA Decision | Lt Gen Zhang Qinsheng, Commander Guangzhou Military Region, Peoples Liberation Army, People's Republic of China | Non-acceptance would cause embarrassment to donor and U.S. Government.
General William Fraser, Joint Chief of Staff, USAF, Washington, DC | Framed 17″ x 23″ piece of porcelain with green, blue, purple and white floral design in gold floral design. Rec'd—9/24/2008. Est. Value—$600.00. Disposition—Pending Transfer to General Services Administration | His Excellency Abdelaziz Bouteflika, President of the People's Democratic Republic of Algeria | Non-acceptance would cause embarrassment to donor and U.S. Government.
Mr. Bruce S. Lemkin, SES, Deputy Under Secretary of the Air Force, International Affairs, Pentagon, Washington, DC | Large 8″ x 15″ x 4′ piece of ore, with what looks to be gold embedded throughout. Rec'd—1/13/2009. Est. Value—Unknown. Disposition—Pending Transfer to General Services Administration | Major Gen Staff Pilot Mohammed bin Abdullah Al Ayeesh, Deputy Commander of the Royal Saudi Air Force (RSAF) | Non-acceptance would cause embarrassment to donor and U.S. Government.
Colonel James R. Hall, chief, Office of Military Cooperation (OMC)-Qatar, US Embassy, Doha, Qatar | Hamilton Khaki Navy Belowzero Auto Chrono Watch, Model H78-616-533. Rec'd—4/19/2009. Est. Value—$1,852.00. Disposition—Pending Transfer to General Services Administration | His Highness Hamad bin Khalifa al-Thani, Qatari Emir (the Emir is also the Qatari Minister of Defense) | Non-acceptance would cause embarrassment to donor and U.S. Government.
Captain Daniel E. Rueth, Combined Air Power Transition Force (CAPTF) Executive Officer, Kabul, Afghanistan | 4′ x 6′ Afghan wool rug, tan with red & blue desing with tan fringe. Rec'd—5/21/2009. Est. Value—$549.00. Disposition—retained at the Headquarters in Afghanistan | Maj Gen Khail Baz Sherzai, Commander of the Afghan National Army Air Corps (ANAAC) Detachment, Kandahar, Islamic Republic of Afghanistan | Non-acceptance would cause embarrassment to donor and U.S. Government.
The Honorable Michael B. Donley, Secretary of the Air Force, Washington, DC | 4′ x 6′ Afghan wool rug, red with yellow design & white fringe. Rec'd—8/28/2009. Est. Value—$550.00. Disposition—Currently on display at the Pentagon, Rm 4E883 | Mr. Abdul Rahim Wardak, Afghan Minister of Defense, Islamic Republic of Afghanistan | Non-acceptance would cause embarrassment to donor and U.S. Government.
The Honorable Michael B. Donley, Secretary of the Air Force, Washington, DC | 6′ x 8′ Afghan wool rug, red with small white design & white fringe. Rec'd—8/28/2009. Est. Value—$1,295.00. Disposition—Currently on display at the Pentagon, Rm 4E883 | Brig Gen Marston Tickell, Chief of Afghan National Air Corps Training, Islamic Republic of Afghanistan | Non-acceptance would cause embarrassment to donor and U.S. Government.
The Honorable Michael B. Donley, Secretary of the Air Force, Washington, DC | 4′ x 6′ Afghan wool rug, tan with blue and tan design & white fringe. Rec'd—10/14/2009. Est. Value—$550.00. Disposition—Currently on display at the Pentagon, Rm 4E878 | Air Chief Marshal Rao Qamar Suleman, Chief of Staff, Pakastain Armed Forces, Islamic Republic of Pakistan | Non-acceptance would cause embarrassment to donor and U.S. Government.
The Honorable Michael B. Donley, Secretary of the Air Force, Washington, DC | 4′ x 6′ Afghan wool rug, tan with blue and tan design & white fringe. Rec'd—10/14/2009. Est. Value—$550.00. Disposition—Currently on display at the Pentagon, Rm 4E878 | Air Chief Marshal Rao Qamar Suleman, Chief of Staff, Pakastain Armed Forces, Islamic Republic of Pakistan | Non-acceptance would cause embarrassment to donor and U.S. Government.

AGENCY: Department of the Army
[Report of Tangible Gifts]
Name and title of person accepting the gift on behalf of the U.S. Government | Gift, date of acceptance on behalf of the U.S. Government, estimated value, and current disposition or location | Identity of foreign donor and government | Circumstances justifying acceptance
Lieutenant General Charles H. Jacoby, Jr, Deputy Commanding General (Operation), U.S. Forces-Iraq & Commander, I Corps | Longines Presence Men's watch. Rec'd—4/2/2009. Est. Value—$645.00. Disposition—Pending Purchase Request | His Excellency Masoud Barzani, President of the Kurdistan Regional Government, Republic of Iraq | Non-acceptance would cause embarrassment to donor and U.S. Government.
Major General Mark P. Hertling, Commanding General, Multi National Division-North | 22 Karat oscar gold and diamond jewelry set (Necklace, earrings, ring, and bracelet). Rec'd—11/13/2008. Est. Value—$2,800.00. Disposition—Pending Transfer to General Services Administration | Major General Sheik Ali, Kurdish General, Republic of Iraq | Non-acceptance would cause embarrassment to donor and U.S. Government.
Lieutenant General R. Steven Whitcomb, The Inspector General | Two-toned 18 Karat yellow gold braclet. Rec'd—3/01/2009. Est. Value—$800.00. Disposition—Pending Transfer to General Services Administration | Egyptian Chief of Staff | Non-acceptance would cause embarrassment to donor and U.S. Government.
Lieutenant General Lloyd Austin, Commander, Multi-National Corps-Iraq | Silver and gold rado brand men's watch. Rec'd—3/30/2009. Est. Value—$635.00. Disposition—Pending Transfer to General Services Administration | General Faruq, Iraqi Operational Commander in Chief, Republic of Iraq | Non-acceptance would cause embarrassment to donor and U.S. Government.
Brigadier General Kevin Mangum, Multi-National Security Transition Command-Iraq | Gold necklace with gold charm. Rec'd—11/7/2009. Est. Value—$700.00. Disposition—Pending Transfer to General Services Administration | Major General Fadil al Bawari, Commander 1st Iraqi Special Forces Brigade, Republic of Iraq | Non-acceptance would cause embarrassment to donor and U.S. Government.
Brigadier General James C. Nixon, Deputy Commanding General—Operation, 25th Infantry Division, Multi-National Division-North, Iraq | Longines gold and silver wrist watch. Rec'd—10/10/2009. Est. Value—$500.00. Disposition—Pending Transfer to General Services Administration | General Chet, Garmian Police Commander, Republic of Iraq | Non-acceptance would cause embarrassment to donor and U.S. Government.
Brigadier General James C. Nixon, Deputy Commanding General—Operation, 25th Infantry Division, Multi-National Division-North, Iraq | Iraqi rug, 22″ x 30″ in gold, yellow, and maroon. Rec'd—3/27/2009. Est. Value—$2,500.00. Disposition—Pending Transfer to General Services Administration | Mayor Sheako Hussein Hammed, Darban di Khan Mayor, Republic of Iraq | Non-acceptance would cause embarrassment to donor and U.S. Government.
Brigadier General James C. Nixon, Deputy Commanding General—Operation, 25th Infantry Division, Multi-National Division-North, Iraq | Iraqi rug, 30″ x 44″ in blue, yellow, and green. Rec'd—10/16/2009. Est. Value—$1,500.00. Disposition—Pending Transfer to General Services Administration | Major General Jabbar Yawar, a Deputy Minster of Peshmerga, Republic of Iraq | Non-acceptance would cause embarrassment to donor and U.S. Government.
Brigadier General James C. Nixon, Deputy Commanding General—Operation, 25th Infantry Division, Multi-National Division-North, Iraq | Iraqi oval rug, 30″ x 48″ in blue, red, and yellow. Rec'd—10/19/2009. Est. Value—$2,500.00. Disposition—Pending Transfer to General Services Administration | Lieutenant General Sherwan, a Deputy Minister of Peshmerga, Republic of Iraq | Non-acceptance would cause embarrassment to donor and U.S. Government.
Brigadier General Patrick J. Donahue, II, 3rd Infantry Division and Multi-National Division North, Deputy Commanding General—Maneuver | Persian silk rug. Rec'd—10/19/2009. Est. Value—$2,000.00. Disposition—Pending Transfer to General Services Administration | Major General Jabbar Yawar, a Deputy Minster of Peshmerga, Republic of Iraq | Non-acceptance would cause embarrassment to donor and U.S. Government.
Major General Robert Caslen, Commanding General, 25th Infantry Division, Multi-National Division-North Iraq | Silk rug, 3′ x 5′ in red, gold, and blue. Rec'd—1/12/2009. Est. Value—$500.00. Disposition—Retain for Official Display at HSC, 25th STB, Command Group, Building 580, Schofield Barracks, HI 96857 | Iraqi Government Official, Republic of Iraq | Non-acceptance would cause embarrassment to donor and U.S. Government.
Major General Robert Caslen, Commanding General, 25th Infantry Division, Multi-National Division-North Iraq | Silk rug, 3′ x 5′ in red, gold, and blue. Rec'd—2/10/2009. Est. Value—$500.00. Disposition—Retain for Official Display at Tropic Lightning Museum, Building #361, Waianae Avenue, Schofield Barracks, HI 96857 | Iraqi Government Official, Republic of Iraq | Non-acceptance would cause embarrassment to donor and U.S. Government.
Major General Robert Caslen, Commanding General, 25th Infantry Division, Multi-National Division-North Iraq | Men's Longines watch. Rec'd—4/26/2009. Est. Value—$600.00. Disposition—Retain for Official Display at Fort DeRussy (U.S. Army Museum of HI), Ala Moana Boulevard & Kalakaua Avenue, Honolulu, HI 96815 | His Excellency Masoud Barzani, President of the Kurdistan Regional Government, Republic of Iraq | Non-acceptance would cause embarrassment to donor and U.S. Government.
Major General Robert Caslen, Commanding General, 25th Infantry Division, Multi-National Division-North Iraq | Silk rug, 6′ x 9′. Rec'd—8/3/2009. Est. Value—$7,500.00. Location—Disponsition—Retain for Official Display at DMAIN, COB Speicher, Tikrit, Iraq, APO AE 09393 | Iraqi Government Official, Republic of Iraq | Non-acceptance would cause embarrassment to donor and U.S. Government.
Major General Robert Caslen, Commanding General, 25th Infantry Division, Multi-National Division-North Iraq | Silk rug, 3′ x 5′ in blue and gold. Rec'd—8/15/2009. Est. Value—$500.00. Disposition—Retain for Official Display at HSC, 25th STB, Command Group, Building 580, Schofield Barracks, HI 96857 | Lieutenant General Sherwan, Deputy Minister of Peshmerga, Republic of Iraq | Non-acceptance would cause embarrassment to donor and U.S. Government.
Major General Robert Caslen, Commanding General, 25th Infantry Division, Multi-National Division-North Iraq | Wool area rug, 4′ x 6′ in red. Rec'd—10/12/2009. Est. Value—$650.00. Disposition—Retain for Official Display at Fort DeRussy (U.S. Army Museum of HI), Ala Moana Boulevard & Kalakaua Avenue, Honolulu, HI 96815 | Government Official, Patriotic Union of Kurdistan, Republic of Iraq | Non-acceptance would cause embarrassment to donor and U.S. Government.
Major General Robert Caslen, Commanding General, 25th Infantry Division, Multi-National Division-North Iraq | Gold necklace, earring and ring set. Rec'd—10/14/2009. Est. Value—$3,100.00. Disposition—Retain for Official Display at Tropic Lightning Museum, Building #361, Waianae Avenue, Schofield Barracks, HI 96857 | Provincial Governor Fatah, Dahuk Provincial Government, Republic of Iraq | Non-acceptance would cause embarrassment to donor and U.S. Government.
Brigadier General James McConville, Deputy Commanding General—101st Airborne Division (Air Assault) | Area rug, 4′ x 6′ in red, green, and tan. Rec'd—3/7/2009. Est. Value—$420.00. Disposition—Retain for Official Display at HQ 101st Airborne Division (Air Assault), Fort Campbell, KY | Hajji Bahlol, Governor of Panjshir Province, Islamic Republic of Afghanistan | Non-acceptance would cause embarrassment to donor and U.S. Government.
Brigadier General James McConville, Deputy Commanding General—101st Airborne Division (Air Assault) | Machine made area rug, 4′ x 6′ in red, green, and tan. Rec'd—10/17/2009. Est. Value—$400.00. Disposition—Retain for Official Display at HQ 101st Airborne Division (Air Assault), Fort Campbell, KY | Hajji Bahlol, Governor of Panjshir Province, Islamic Republic of Afghanistan | Non-acceptance would cause embarrassment to donor and U.S. Government.

AGENCY: Department of the Navy
[Report of Tangible Gifts]
Name and title of person accepting the gift on behalf of the U.S. Government | Gift, date of acceptance on behalf of the U.S. Government, estimated value, and current disposition or location | Identity of foreign donor and government | Circumstances justifying acceptance
Admiral Gary Roughead, Chief of Naval Operations and Spouse | 3.89 karat diamond bracelet, in brown lacquered box (with certificate). Rec'd—5/28/09. Est. Value—$4,000.00. Location—General Services Administration | Mrs. Mameesh, wife of the Egyptian Chief of Naval Forces, Arab Republic of Egypt | Non-acceptance would cause embarrassment to donor and U.S. Government
Admiral Gary Roughead, Chief of Naval Operations | Swiza travel alarm timepiece encased in Imit Crocoskin with silver dial in brown leather box. Rec'd—4/14/08. Est. Value—$350.00. Location—General Services Administration | Shaikh Salman Bin hamad Al Khalifa, Crown Prince and Deputy Supreme Commander, Kingdom of Bahrain | Non-acceptance would cause embarrassment to donor and U.S. Government
Admiral Gary Roughead, Chief of Naval Operations | 19” Silver vase. Rec'd—5/28/09. Est. Value—$1,000.00. Disposition—Retained by member for display | Vice Admiral Mohab Mameesh, Egyptian Naval Forces, Arab Republic of Egypt | Non-acceptance would cause embarrassment to donor and U.S. Government
Admiral Gary Roughead, Chief of Naval Operations | Hand crafted crystal bowl by Lalique. Rec'd—12/24/08. Est. Value—$700.00. Disposition—Retained by member for display | Vice Admiral Fahd Bin Abdullah, Commander of the Royal Saudi Naval Forces, Kingdom of Saudi Arabia | Non-acceptance would cause embarrassment to donor and U.S. Government
Lieutenant General John R. Allen, U.S. Marine Corps, Deputy Commander, U.S. Central Command | Longines gift set in brown lacquered box with keys; black ink pen; black leather wallet with Longines logo imprinted; set of silver and black cufflinks with Logines logo and a stainless steel Swiss analog men's watch with blue face and Longines logo on back, Serial No. 34257113. Rec'd—12/18/08. Est. Value—$1,000.00. Location—General Services Administration | Maj Gen Hamad Al Atiya, Chief of Staff of the Qatari Armed Forces, State of Qatar | Non-acceptance would cause embarrassment to donor and U.S. Government
Lieutenant General John R. Allen, U.S. Marine Corps, Deputy Commander, U.S. Central Command | Swiss Rolex stainless steel analog mans' watch with black face, presented. Rec'd—11/23/08. Est. Value—$6,000.00. Location—General Services Administration | Dr. Abudusalem, Chair Al Anbar Provincial Council, Republic of Iraq | Non-acceptance would cause embarrassment to donor and U.S. Government
Rear Admiral Douglass T. Biesel, U.S. Navy, Commander, Joint Region Marianas | 29” x 21” carved wooden Palauan storyboard relating tale of “Turtle of Ngemelis.”. Rec'd—10/9/09. Est. Value—$1,025.00. Disposition—Retained by member for display | President Tommy Remengesau, Jr., Republic of Palau | Non-acceptance would cause embarrassment to donor and U.S. Government

AGENCY: Department of the Treasury
[Report of Tangible Gifts]
Name and title of person accepting the gift on behalf of the U.S. Government | Gift, date of acceptance on behalf of the U.S. Government, estimated value, and current disposition or location | Identity of foreign donor and government | Circumstances justifying acceptance
Andrew P. Baukol, Deputy Assistant Secretary for Africa and the Middle East | Briefcase: Pierre Cardin, black leather. Rec'd—5/13/2009. Est. Value—$389.00. Disposition—Pending Transfer to General Services Administration | African Development Bank; government official who presented gift unknown | Non-acceptance would cause embarrassment to donor and U.S. Government.
The Honorable Timothy F. Geithner, Secretary of the Treasury of the United States | Travel bag: Tod's black leather. Rec'd—2/14/2009. Est. Value—$3,400.00. Disposition—Pending Transfer to General Services Administration | The Honorable Giulio Tremonti, Finance Minister of the Italian Republic | Non-acceptance would cause embarrassment to donor and U.S. Government.
The Honorable Timothy F. Geithner, Secretary of the Treasury of the United States | Goldplated sterling silver decanter. Rec'd—4/7/2009. Est. Value—$355.00. Disposition—Pending Transfer to General Services Administration | His Excellency Hamid Bin Jassim Bin Jabor Al-Thani, Prime Minister of the State of Qatar | Non-acceptance would cause embarrassment to donor and U.S. Government.
Robert Kimmitt, Deputy Secretary of the Treasury | 4′ x 6′ Oriental area rug. Rec'd—1/22/2009. Est. Value—$698.00. Disposition—Transfer to Treasury Office of Personal Property on February 25, 2009 | His Excellency Asif Ali Zardari, President of the Islamic Republic of Pakistan | Non-acceptance would cause embarrassment to donor and U.S. Government.
Robert Kimmitt, Deputy Secretary of the Treasury | 4′ x 6′ Oriental area rug. Rec'd—4/8/2009. Est. Value—$598.00. Disposition—Transfer to Treasury Office of Personal Property on April 14, 2009 | His Excellency Asif Ali Zardari, President of the Islamic Republic of Pakistan | Non-acceptance would cause embarrassment to donor and U.S. Government.
Meg Lundsager, United States Executive Director of the International Monetary Fund | Proof set of four Uzbekistan coins. Rec'd—10/14/2009. Est. Value—$360.00. Disposition—Pending Transfer to General Services Administration | Mullajonov Fayzulla Maksudhonovich, Chairman of the Central Bank of Uzbekistan of the Republic of Uzbekistan | Non-acceptance would cause embarrassment to donor and U.S. Government.
The Honorable Neal Wolin, Deputy Secretary of the Treasury | 2004 Monaco Official Proof coin set. Rec'd—9/8/2009. Est. Value—$618.00. Disposition—Pending Transfer to General Services Administration | Franck Biancheri, Government Counsellor for External Relations of the Principality of Monaco | Non-acceptance would cause embarrassment to donor and U.S. Government.

AGENCY: Federal Energy Regulatory Commission
[Report of Tangible Gifts]
Name and title of person accepting the gift on behalf of the U.S. Government | Gift, date of acceptance on behalf of the U.S. Government, estimated value, and current disposition or location | Identity of foreign donor and government | Circumstances justifying acceptance
Richard Miles, Director of the Office of Administrative Litigation, FERC | Limited-edition Mont Blanc pen Rec'd—2/3/2009. Est. Value—$600. Disposition—Office of External Affairs Foreign Gift Room for display | Her Excellency Marina Serrano Gonzales, Secretary to the Board, Spain Comision Nacional de Energia, Spain | Non-acceptance would cause embarrassment to donor and U.S. Government.

AGENCY: Federal Reserve Board
[Report of Tangible Gifts]
Name and title of person accepting the gift on behalf of the U.S. Government | Gift, date of acceptance on behalf of the U.S. Government, estimated value, and current disposition or location | Identity of foreign donor and government | Circumstances justifying acceptance
The Honorable Ben S. Bernanke, Chairman of the Board of Governors of the Federal Reserve System | Leather travel bag. Rec'd—2/14/2009. Est. Value—$750.00. Disposition—Office of the Chairman for Official Use | The Honorable Giulio Tremonti, Minister of Economy and Finance of the Italian Republic | Non-acceptance would cause embarrassment to donor and U.S. Government.
The Honorable Ben S. Bernanke, Chairman of the Board of Governors of the Federal Reserve System | Commemorative coin set (4 coins)—Poland's Road to Freedom (2009). Rec'd—9/1/2009. Est. Value—$425.00. Disposition—Chairman's office for Official Use | The Honorable Slawomir Stanislaw Skrzypek, President of the National Bank of the Republic of Poland | Non-acceptance would cause embarrassment to donor and U.S. Government.

AGENCY: Office of Science and Technology Policy
[Report of Tangible Gifts]
Name and title of person accepting the gift on behalf of the U.S. Government | Gift, date of acceptance on behalf of the U.S. Government, estimated value, and current disposition or location | Identity of foreign donor and government | Circumstances justifying acceptance
The Honorable Dr. John P. Holdren, Assistant to the President for Science and Technology and Director, Office of Science and Technology Policy | Montegrappa fountain pen given at the Carnegie S+T meeting. Rec'd—11/1/2009. Est. Value—$1400.00. Disposition—Pending Transfer to General Services Administration | The Honorable Andrei Fursenko, Minister of Education and Science of the Russian Federation | Non-acceptance would cause embarrassment to donor and U.S. Government.

AGENCY: Office of the Director of National Intelligence
[Report of Tangible Gifts]
Name and title of person accepting the gift on behalf of the U.S. Government | Gift, date of acceptance on behalf of the U.S. Government, estimated value, and current disposition or location | Identity of foreign donor and government | Circumstances justifying acceptance
5 U.S.C. 7342 (f)(4), as amended | Card holder, leather, Cartier “Santos” together with a Cartier pen, fitted case. Rec'd—12/9/2009 Est. Value—$420.00. Disposition—For Official Use | 5 U.S.C. 7342(f)(4), as amended | Non-acceptance would cause embarrassment to donor and U.S. Government.
5 U.S.C. 7342 (f)(4), as amended | Rug, 57″x39″, silk on silk, central radiating design, eight borders with compartmented main, Pakistan, 20th/21st century. Rec'd—6/5/2009. Est. Value—$2,000.00. Disposition—For Official Use | 5 U.S.C. 7342(f)(4), as amended | Non-acceptance would cause embarrassment to donor and U.S. Government.
5 U.S.C. 7342(f)(4), as amended | Rug, 46″x33″, silk on silk, ivory field with maroon and olive scrolling, four borders with maroon main, Egypt, 20th/21st century. Rec'd—12/10/2009. Est. Value—$850.00. Disposition—For Official Use | 5 U.S.C. 7342(f)(4), as amended | Non-acceptance would cause embarrassment to donor and U.S. Government.
5 U.S.C. 7342(f)(4), as amended | Rug, 62″x36″, wool on cotton, fleshy field with lozenge medallions, multiple borders, Pakistan, 20th/21st century. Rec'd—6/1/2009. Est. Value—$550.00. Disposition—For Official Use | 5 U.S.C. 7342(f)(4), as amended | Non-acceptance would cause embarrassment to donor and U.S. Government.

AGENCY: U.S. House of Representatives
[Report of Tangible Gifts]
Name and title of person accepting the gift on behalf of the U.S. Government | Gift, date of acceptance on behalf of the U.S. Government, estimated value, and current disposition or location | Identity of foreign donor and government | Circumstances justifying acceptance
The Honorable Michael E. Capuano, Member of Congress | Six neckties. Rec'd—2/17/2009. Est. Value—$420.00. Location—Office of the Clerk | His Excellency Silvio Berlusconi, President of the Council of Ministers of the Republic of Italy | Non-acceptance would cause embarrassment to donor and U.S. Government.
The Honorable Rosa L. DeLauro, Member of Congress | Four women's scarves. Rec'd—2/13-2/22/2009. Est. Value—$1,170.00. Location—Office of the Clerk | His Excellency Silvio Berlusconi, President of the Council of Ministers of the Republic of Italy | Non-acceptance would cause embarrassment to donor and U.S. Government.
The Honorable John B. Larson, Member of Congress | Six neckties. Rec'd—2/17/2009. Est. Value—$420.00. Location—Four ties personally retained by Member; two ties transferred to Office of the Clerk | His Excellency Silvio Berlusconi, President of the Council of Ministers of the Republic of Italy | Non-acceptance would cause embarrassment to donor and U.S. Government.
The Honorable George Miller, Member of Congress | Eight neckties. Rec'd—2/13/2009. Est. Value—$560.00. Location—Four ties personally retained by Member; four ties transferred to Office of the Clerk | His Excellency Silvio Berlusconi, President of the Council of Ministers of the Republic of Italy | Non-acceptance would cause embarrassment to donor and U.S. Government.
The Honorable Bill Pascrell, Jr., Member of Congress | Six E. Marinella silk neckties. Rec'd—2/17/2009. Est. Value—$420.00. Location—Four ties personally retained by Member; two ties transferred to Office of the Clerk | His Excellency Silvio Berlusconi, President of the Council of Ministers of the Republic of Italy | Non-acceptance would cause embarrassment to donor and U.S. Government.
The Honorable Nancy Pelosi, Speaker of the House | Pair of Murano glass 15″ tall candlesticks with matching centerpiece footed bowl, gold iridescent glass, 20th century. Rec'd—2/19/2009. Est. Value—$950.00. Location—H-232, The Capitol (Permission granted to retain for official use) | His Excellency Silvio Berlusconi, President of the Council of Ministers of the Republic of Italy | Non-acceptance would cause embarrassment to donor and U.S. Government.
The Honorable Nancy Pelosi, Speaker of the House | Three E. Marinella scarves. Rec'd—6/15/2009. Est. Value—$877.50. Location—One scarf to be purchased and personally retained by Member; two scarves transferred to Office of the Clerk | His Excellency Silvio Berlusconi, President of the Council of Ministers of the Republic of Italy | Non-acceptance would cause embarrassment to donor and U.S. Government.
The Honorable Nancy Pelosi, Speaker of the House | 4′ x 6′ silk screen of the Yangtze River Gorge, circa 2009. Rec'd—9/8/2009. Est. Value—$500.00. Location—H-230, The Capitol (Permission granted to retain for official use) | Chairman Wu Bangguo, Chairman, Standing Committee of the National People's Congress, People's Republic of China | Non-acceptance would cause embarrassment to donor and U.S. Government.

AGENCY: United States Agency for International Development
[Report of Tangible Gifts]
Name and title of person accepting the gift on behalf of the U.S. Government | Gift, date of acceptance on behalf of the U.S. Government, estimated value, and current disposition or location | Identity of foreign donor and government | Circumstances justifying acceptance
Courtney Chubb, EXO, USAID/Russia | Wooden box with stone decorations, a pipe with silver trim and jewelry. Rec'd—2/16/09. Est. Value—$3,400.00. Disposition—USAID/Washington | Senator Vitaly Malkin, State Representative from the Republic of Buryatia to the Federation Council of the Russian Federation | Non-acceptance would cause embarrassment to donor and U.S. Government.

AGENCY: United States Senate
[Report of Tangible Gifts]
Name and title of person accepting the gift on behalf of the U.S. Government | Gift, date of acceptance on behalf of the U.S. Government, estimated value, and current disposition or location | Identity of foreign donor and government | Circumstances justifying acceptance
The Honorable Thomas Carper, United States Senator | 6′ x 9′ Afghan wool rug. Rec'd—5/24/2009. Est. Value—$1000.00. Location—Deposited with the Secretary of the Senate | Abdul Rahim Wardak, Defense Minister, Islamic Republic of Afghanistan | Non-acceptance would cause embarrassment to donor and U.S. Government.
The Honorable Hillary Rodham Clinton, United States Senator | Metal and wood sculpture by Israel Hadany entitled “The Spies”. Rec'd—02/01/2002. Est. Value—$3500.00. Location—Deposited with the Secretary of the Senate | Binyamin Elon, Minister of Tourism of Israel | Non-acceptance would cause embarrassment to donor and U.S. Government.

[FR Doc. 2011-794 Filed 1-14-11; 8:45 am]

BILLING CODE 4710-20-P